COMMODITY FUTURES TRADING COMMISSION

Privacy Act of 1974; Systems of Records; Biennial Publication

AGENCY: Commodity Futures Trading Commission.

ACTION: Publication of annual notice of the existence and character of each system of records that the Commodity Futures Trading Commission (“Commission”) maintains that contains information about individuals.

SUMMARY: The purpose of this notice is to announce the existence and character of the systems of records of the Commodity Futures Trading Commission as required by the Privacy Act of 1974, Public Law 93-579, 5 U.S.C. 552a.

Pursuant to 5 U.S.C. 552a(f), the Commission, on August 8, 1975, promulgated rules relating to records maintained by the Commission concerning individuals (40 FR 41056). The rules as amended (17 CFR part 146) address an individual's rights to know what information the Commission has in its files concerning the individual; to have access to those records; to petition the Commission to have inaccurate or incomplete records amended or corrected; and not to have personal information disseminated to unauthorized persons. The full text of the Commission's rules implementing the Privacy Act can be found in 17 CFR part 146.

Under 17 CFR 146.11(a), the Commission is required to publish biennially a notice of the existence and character of each system of records it maintains that contains information about individuals. This notice implements this requirement and, when read together with the Commission's rules, will provide individuals with the information that they need to exercise fully their rights under the Privacy Act.

FOR FURTHER INFORMATION CONTACT: Edward W. Colbert, Deputy Secretary to the Commission, Freedom of Information Act, Privacy Act and Government in the Sunshine Act Compliance Office, (202) 418-5105, or Stacy Dean Yochum, Counsel to the Executive Director, (202) 418-5157, Commodity Futures Trading Commission, Three Lafayette Centre, 1155 21st Street, NW., Washington, DC 20581.

SUPPLEMENTARY INFORMATION:

Content of Systems Notices

Each of the notices contains the following information:

1. The name of the system;

2. The location of the system;

3. The categories of individuals on whom records are maintained in the system;

4. The categories of records maintained in the system;

5. The authority for maintaining the system;

6. The routine uses of records maintained in the system, including the categories of users and the purposes of such uses;

7. The policies and practices for storing, retrieving, accessing, retaining, and disposing of records in the system;

8. The title and business address of the system manager, the agency official who is responsible for the system of records;

9. The agency procedures by which an individual can find out whether the system of records contains a record pertaining to him, how he may gain access to any record pertaining to him contained in the system of records, and how he can contest the content of the records; and

10. The categories of sources of records in the system.

The following four systems of records have been exempted, as set forth in the descriptions of these systems of records, from certain requirements of the Privacy Act, as authorized under 5 U.S.C. 552a(k):

CFTC-9 Confidential information obtained during employee background investigations.

CFTC-10 Investigatory materials compiled for law enforcement purposes.

CFTC-31 Information pertaining to individuals discussed at closed Commission meetings.

CFTC-32 Investigatory materials compiled by the Office of the Inspector General.

The Location of Systems of Records

The Commission offices are in the following locations:

• Three Lafayette Centre, 1155 21st Street, NW., Washington, DC 20581, Telephone: (202) 418-5000;

• 300 Riverside Plaza, Suite 1600 North, Chicago, Illinois 60606, Telephone: (312) 353-5990;

• 4900 Main Street, Suite 721, Kansas City, Missouri 64112, Telephone: (816) 931-7600;

• One World Trade Center, Suite 3747, New York, New York 10048, Telephone: (212) 466-2061;

• Murdock Plaza, 10900 Wilshire Blvd, Suite 400, Los Angeles, California 90024, Telephone: (310) 235-6783; and

• 510 Grain Exchange Building, Minneapolis, Minnesota 55415, Telephone: (612) 370-3255.

Where a system of records is stored in multiple locations, the notice merely identifies the offices and refers to this introductory section for each address. The Commission's headquarters office is in Washington, DC, and is referred to in the systems notice as the “principal office.” The Commission maintains regional offices in Chicago and New York and smaller offices in Kansas City, Minneapolis and Los Angeles. For purposes of this notice, the regional offices and smaller offices are referred to collectively as the “regional offices.” “All CFTC offices” means the headquarters office, the regional offices and the smaller offices.

In many cases, records within a system are not available at each of the offices listed in the system notice. For example, case files are maintained in the office where the investigation is conducted, but certain information may be maintained in other offices as well. It is the Commission's responsibility, unless otherwise specified in the system notice, to determine where the particular records being sought are located. However, if the individual seeking the records in fact knows the location, it would be helpful to the Commission if the requester would indicate that location.

Scope and Content of Systems of Records

The Privacy Act applies to personal information about individuals. Personal information subject to the provisions of the Privacy Act may sometimes be found in a system of records that might appear to relate solely to commercial matters. For example, the system of records concerning registration of the various categories of registrants (CFTC-20) contains primarily business information. However, a firm's application for registration contains a few items of personal information concerning key personnel. Because the capability exists through the National Futures Association's computer system to retrieve information from this system of records not only by use of the name of the firm but also by the use of the name of these individuals, this information is within the purview of the Privacy Act. See the definition of system of records in the Privacy Act, 5 U.S.C. 552(a)(5), and § 146.2(g) of the Commission's Privacy Act rules, 17 CFR 146.2(g).

Such a capability would generally not exist, however, in a Commission staff investigation of the activities of a firm unless an individual is registered as an FCM, IB, CTA or CPO. That is, if the investigation was opened under the name of the FCM, information would be retrievable only under that name. Accordingly, information about principals of a firm under investigation that might be developed during the investigation would generally not be retrievable by the name of the individual, and the provisions of the Privacy Act would not apply.

General Statement of Routine Uses

A principal purpose of the Privacy Act is to restrict the unauthorized dissemination of personal information concerning an individual. In this connection, the Privacy Act and the Commission's rules prohibit dissemination except for specific purposes. Individuals should refer to the full text of the Privacy Act, 5 U.S.C. 552a(b), and to the Commission's rules, 17 CFR part 146, for a complete list of authorized disclosures. Only those arising most frequently have been mentioned herein.

The Privacy Act and the Commission's rules specifically provide that disclosure may be made with the written consent of the individual to whom the record pertains. Disclosure may also be made to those officers and employees of the Commission who need the record in the performance of their duties. In addition, disclosures are authorized if they are made pursuant to the terms of the Freedom of Information Act, 5 U.S.C. 552.

The Privacy Act and the Commission's rules permit disclosure of individual records if it is for a “routine use,” which is defined as a use of a record that is compatible with the purpose for which it was collected. Unless otherwise indicated, the following routine uses of Commission records are applicable to all CFTC systems. To avoid unnecessary repetition of these routine uses, where they are generally applicable, the system notice refers the reader to the “General Statement of Routine Uses.” The notice for each system of records lists any specific routine uses that are applicable to that system.

1. The information may be used by the Commission in any administrative proceeding before the Commission, in any injunctive action authorized under the Commodity Exchange Act or in any other action or proceeding in which the Commission or its staff participates as a party or the Commission participates as amicus curiae.

2. The information may be given to the Justice Department, the Securities and Exchange Commission, the United States Postal Service, the Internal Revenue Service, the Department of Agriculture, the Office of Personnel Management, and to other Federal, state or local law enforcement or regulatory agencies for use in meeting responsibilities assigned to them under the law, or made available to any member of Congress who is acting in his capacity as a member of Congress.

3. The information may be given to any board of trade designated as a contract market by the Commission if the Commission has reason to believe this will assist the contract market in carrying out its responsibilities under the Commodity Exchange Act, 7 U.S.C. 1, et seq., and to any national securities exchange or national securities association registered with the Securities and Exchange Commission, to assist those organizations in carrying out their self-regulatory responsibilities under the Securities Exchange Act of 1934, 15 U.S.C. 78a, et seq.

4. At the discretion of the Commission staff, the information may be given or shown to anyone during the course of a Commission investigation if the staff has reason to believe that the person to whom it is disclosed may have further information about the matters discussed therein, and those matters appear relevant to the subject of the investigation.

5. The information may be included in a public report issued by the Commission following an investigation, to the extent that this is authorized under section 8 of the Commodity Exchange Act, 7 U.S.C. 12. Section 8 authorizes publication of such reports but contains restrictions on the publication of certain types of sensitive business information developed during an investigation. In certain contexts, some of this information might be considered personal in nature.

6. The information may be disclosed to a Federal agency in response to its request in connection with the hiring or retention of an employee, the issuance of a security clearance, the reporting of an investigation of an employee, the letting of a contract or the issuance of a license, or a grant or other benefit by the requesting agency, to the extent that the information may be relevant to the requesting agency's decision on the matter.

7. The information may be disclosed to a prospective employer in response to its request in connection with the hiring or retention of an employee, to the extent that the information is believed to be relevant to the prospective employer's decision in the matter.

8. The information may be disclosed to any person, pursuant to Section 12(a) of the Commodity Exchange Act, 7 U.S.C. 16(a), when disclosure will further the policies of that Act or of other provisions of law. Section 12(a) authorizes the Commission to cooperate with various other government authorities or with “any person.”

System Notices

The Commission's systems of records are set forth below. For further information contact: Freedom of Information Act (FOIA), Privacy Act and Government in the Sunshine Act Compliance Staff, Office of the Secretariat, Commodity Futures Trading Commission, Three Lafayette Centre, 1155 21st Street, NW., Fourth Floor, Washington, DC 20581, (202) 418-5105.

Index

CFTC-1 Matter Register and Matter Indices

CFTC-2 Correspondence Files

CFTC-3 Docket Files

CFTC-4 Employee Leave, Time and Attendance

CFTC-5 Employee Personnel/Payroll and Personnel Records

CFTC-6 Employee Travel and Transportation Records

CFTC-7 Exempted Informal Employment Complaint Files

CFTC-8 Employment Applications

CFTC-10 Exempted Investigatory Records

CFTC-12 Fitness Investigations

CFTC-13 Interpretative, Exemptive and No-Action Files

CFTC-15 Large Trader Report Files

CFTC-16 Enforcement Case Files

CFTC-17 Litigation Files-OGC

CFTC-18 Logbook on Speculative Limit Violations

CFTC-20 Registration of Floor Brokers, Floor Traders, Futures Commission Merchants, Introducing Brokers, Commodity Trading Advisors, Commodity Pool Operators, Leverage Transaction Merchants, Agricultural Trade Option Merchants and Associated Persons

CFTC-28 SRO Disciplinary Action File

CFTC-29 Reparations Complaints

CFTC-30 Open Commission Meetings

CFTC-31 Exempted Closed Commission Meetings

CFTC-32 Exempted Office of the Inspector General Investigative Files

CFTC-33 Electronic Key Card Usage

CFTC-34 Telephone System

CFTC-35 Interoffice and Internet Email

CFTC-36 Internet Security Gateway (Firewall) System

CFTC-37 Lexis-Westlaw Billing Information System

CFTC-38 Automated Library Circulation System

CFTC-39 Freedom of Information Act Requests

CFTC-40 Privacy Act Requests

CFTC-41 Requests for Confidential Treatment

CFTC-42 Debt Collection Files

CFTC-1

System Name:

Matter Register and Matter Indices.

System Location:

This system is located in the Division of Enforcement in the Commission's principal office and regional offices. See “The Location of Systems of Records.”

Categories of Individuals Covered by the System:

a. Persons found or alleged to have, or suspected of having, violated the Commodity Exchange Act or the rules, regulations or orders of the Commission adopted thereunder.

b. Persons lodging complaints with the Commission.

c. Agency referrals.

Categories of Records in the System:

An index system to CFTC-10 Exempted Investigatory Records and CFTC-16 Enforcement Case Files, including:

a. The matter register. Records are organized by docket number and/or matter name. The register also indicates the date opened, the disposition and status, the date closed, and the staff member assigned.

b. The matter register also includes reports recommending openings and closings of investigations.

Authority for the Maintenance of the System:

Section 8 of the Commodity Exchange Act, 7 U.S.C. 12.

Routine Uses of Records Maintained in the System, Including Categories of Users and the Purposes of Such Uses:

See “General Statement of Routine Uses.”

Policies and Practices for Storing, Retrieving, Accessing, Retaining, and Disposing of Records in the System:

Storage:

Paper records in file folders, loose-leaf binders, computer files, and computer printouts.

Retrievability:

By matter name or docket number.

Safeguards:

General building security. In appropriate cases, the records are maintained in lockable file cabinets. Computer files require password to access.

Retention and Disposal:

The records are destroyed when no longer needed.

Systems Manager(s) and Address:

Director, Division of Enforcement, in the Commission's principal office and Regional Counsel in New York, Chicago and Los Angeles. See “The Location of Systems of Records.”

Notification Procedure:

Individuals seeking to determine whether this system of records contains information about themselves or seeking access to records about themselves in this system of records, or contesting the content of records about themselves contained in this system of records should address written inquiry to the FOI, Privacy and Sunshine Acts Compliance Staff, Commodity Futures Trading Commission, Three Lafayette Centre, 1155 21st Street, NW., Washington, DC 20581. Telephone (202) 418-5105.

Record Source Categories:

Persons submitting complaints to the Commission, and miscellaneous sources including customers, law enforcement and regulatory agencies, commodity exchanges, National Futures Association, trade sources, and Commission staff generated items.

CFTC-2

System Name:

Correspondence Files.

System Location:

This system is located in the Commission's principal offices at Three Lafayette Centre, 1155 21st Street, NW. Washington, DC 20581.

Categories of Individuals Covered by the System:

Persons corresponding with the Commission, directly or through their representatives. Persons discussed in correspondence to or from the Commission.

Categories of Records in the System:

Incoming and outgoing correspondence and indices of correspondence, and certain internal reports and memoranda related to the correspondence. This system includes only those records that are part of a general correspondence file maintained by the office involved. It includes correspondence indexed by subject matter, date or assigned number and, in certain offices, by individual name of the correspondent.

Authority for Maintenance of the System:

44 U.S.C. 3101.

Routine Uses of Records Maintained in the System, Including Categories of Users and the Purposes of Such Uses:

See “General Statement of Routine Uses.”

Policies and Practices for Storing, Retrieving, Accessing, Retaining, and Disposing of Records in the System:

Storage:

Paper records in file folders, in loose-leaf binders, on index cards, computer files and printouts, and related indices on magnetic disk.

Retrievability:

By name of correspondent, subject matter, date or assigned number. The name may be either the name of the person who sent or received the letter, or the person on whose behalf the letter was sent or received. It may also be another person who was the principal subject of the letter, where circumstances appear to justify this treatment. See previous discussion concerning the category of records maintained in this system.

Safeguards:

Secured rooms or on secured premises with access limited to those whose official duties require access.

Retention and Disposal:

The retention and disposal period depends on the nature of the correspondence. For example, correspondence with the Commission that pertains to the programs and policies of the Commission becomes part of the agency's central files and is kept permanently. Other correspondence may be kept for between one and 10 years, depending on the subject matter.

System Manager(s) and Address:

Office of the Secretariat; Director, Office of Public Affairs; Director, Office of Legislative and Intergovernmental Affairs; Executive Director; General Counsel; Director, Division of Enforcement; Director, Division of Trading and Markets; and, Director, Division of Economic Analysis. All are located at the Commodity Futures Trading Commission, Three Lafayette Centre, 1155 21st Street, N.W., Washington, D.C. 20581.

Notification Procedure:

Individuals seeking to determine whether this system of records contains information about themselves, or seeking access to records about themselves in this system of records, or contesting the content of records about themselves contained in this system of records should address written inquiry to the FOI, Privacy and Sunshine Acts Compliance Staff, Commodity Futures Trading Commission, Three Lafayette Centre, 1155 21st Street, NW., Washington, DC 20581. Telephone (202) 418-5105. Specify the system manager, if known.

Record Source Categories:

Persons corresponding with the Commission and correspondence and memoranda prepared by the Commission.

CFTC-3

System name:

Docket Files.

System Location:

This system is located in the Office of Proceedings, Proceedings Clerk's Office, Commodity Futures Trading Commission, Three Lafayette Centre, 1155 21st Street, NW., Washington, DC 20581.

Categories of Individuals Covered by the System:

All persons involved in any CFTC proceeding.

Categories of Records in the System:

All pleadings, motions, applications, stipulations, affidavits, transcripts and documents introduced as evidence, briefs, orders, findings, opinions, and other matters that are part of the record of an administrative or reparations proceeding. They also include related correspondence and indices.

Authority for Maintenance of the System:

The Commission is authorized or required to conduct hearings under several provisions of the Commodity Exchange Act. These files are a necessary concomitant for the conduct of orderly hearings. See also 44 U.S.C. 3101.

Routine Uses of Records Maintained in the System, Including Categories of Users and the Purposes of Such Uses:

These records are public records unless the Commission or assigned presiding officer determines for good cause to treat them as nonpublic records consistent with the provisions of the Freedom of Information Act. Nonpublic portions may be used for any purpose specifically authorized by the Commission or by the presiding officer who ordered such nonpublic treatment of the records.

Policies and Practices for Storing, Retrieving, Accessing, Retaining, and Disposing of Records in the System:

Storage:

Paper records in file folders, computer files, computer printouts, index cards, and microfiche.

Retrievability:

By the docket number and cross-indexed by complainant and respondent names.

Safeguards:

Only items that the Commission or the presiding officer has directed to be kept nonpublic are segregated. Precautions are taken as to these items to assure that access is restricted to authorized personnel only. Access to computer records is limited to authorized personnel and password protected.

Retention and Disposal:

Docket files in reparations cases are maintained for 10 years after final disposition of the case. Docket files in enforcement cases are maintained for 15 years after final disposition of the case.

System Manager(s) and Address:

Proceedings Clerk, Office of Proceedings, Commodity Futures Trading Commission, Three Lafayette Centre, 1155 21st Street, NW., Fourth Floor, Washington, DC 20581.

Notification Procedure:

Individuals seeking to determine whether this system of records contains information about themselves, or seeking access to records about themselves, or contesting the content of records about themselves contained in this system of records should address written inquiry to the FOI, Privacy and Sunshine Acts Compliance Staff, Commodity Futures Trading Commission, Three Lafayette Centre, 1155 21st Street, N.W., Washington, D.C. 20581. Telephone (202) 418-5105.

Record Source Categories:

Commission staff members; opposing parties and their attorneys; proceeding witnesses; and miscellaneous sources.

CFTC-4

System name:

Employee Leave, Time and Attendance.

System Location:

The information in the system is kept in the CFTC offices in which the employee described by the records is located. Information is also kept centrally on the computer system located in the Department of Agriculture's National Finance Center, New Orleans, Louisiana.

Categories of Individuals Covered by the System:

All CFTC employees.

Categories of Records in the System:

Various records reflecting CFTC employees' time and attendance and leave status, as well as the allocation of employee time to designated budget account codes.

Authority for Maintenance of the System:

5 U.S.C. 6101-6133; 5 U.S.C. 6301-6326; 44 U.S.C. 3101.

Routine Uses of the Records Maintained in the System, Including categories of users and the purposes of such uses:

a. In response to legitimate requests, this information may be provided to other Federal agencies for the purpose of hiring or retaining employees, and may be provided to other prospective employers, to the extent that the information is relevant to the prospective employer's decision in the matter.

b. The information may be provided to the Justice Department or other Federal agencies or used by the Commission in connection with any investigation, or administrative or legal proceeding involving any violation of any Federal law or regulation thereunder.

Policies and Practices for Storing, Retrieving, Accessing, Retaining, and Disposing of Records in the System:

STORAGE:

Hard copies of time and attendance worksheets, leave request slips and signed printouts; diskettes; mainframe computer (NFC).

Retrievability:

By the name of the employee or by the employee number, cross-indexed by name.

Safeguards:

Lock boxes and/or locked file drawers. Password required for access to diskettes and NFC computer system.

Retention and Disposal:

Hard copy records, including leave slips, signed printouts from the PC-TARE system, overtime approval slips and budget account code worksheets are retained for six years, then destroyed. Diskettes are written over on a 12-month rotating cycle.

System Manager and Address:

Office of Human Resources, Commodity Futures Trading Commission, Three Lafayette Centre, 1155 21st Street, NW., Washington, DC 20581.

Notification Procedure:

Individuals seeking to determine whether this system of records contains information about themselves, or seeking access to records about themselves in this system of records, or contesting the content of records about themselves contained in this system of records should address written inquiry to the FOI, Privacy and Sunshine Acts Compliance Staff, Commodity Futures Trading Commission, Three Lafayette Centre, 1155 21st Street, NW., Washington, DC 20581. Telephone (202) 418-5105.

Record source categories:

The individual on whom the record is maintained.

CFTC-5

System Name:

Employee Personnel/Payroll Records.

System Location:

This system is located in the Office of Human Resources and the Office of General Counsel, Commodity Futures Trading Commission, Three Lafayette Centre, 1155 21st Street, NW., Washington, DC 20581 and on a computer system located in the Department of Agriculture's National Finance Center, New Orleans, Louisiana.

Categories of Individuals Covered by the System:

All CFTC employees.

Categories of Records in the System:

Payroll related information for current CFTC employees, including payroll and leave data for each employee relating to rate and amount of pay, leave and hours worked, and leave balances, tax and retirement deductions, life insurance and health insurance deductions, savings allotments, savings bonds and charity deductions, mailing addresses and home addresses, direct deposit information, and copies of the CFTC time and attendance reports as well as authorities relating to deductions, including salary offset under part 141 of the Commission's rules. The records maintained in the principal office for all employees may also include: a. Forms required and records maintained under the Commission's rules of conduct and the Ethics in Government Act, such as the SF-278 and requests for approval of outside employment (CFTC Form 20); b. Various summary materials received in computer printout form; c. Awards information; d. Recruitment, relocation or retention bonuses; and e. Training information.

The official personnel records maintained by the Commission are described in the system notices published by the Office of Personnel Management (OPM/GOVT-1), and are not included within this system. (Check Opm/Govt-1 to see if it includes relocation, retention, etc. bonuses)

Authority for Maintenance of the System:

44 U.S.C. 3101, 5 U.S.C. APP. (Personnel Financial Disclosure Requirements).

Routine Uses of Records Maintained in the System, Including Categories of Users and the Purposes of Such Uses:

a. In response to legitimate requests, this information may be provided to other Federal agencies for the purpose of hiring or retaining employees, and may be provided to other prospective employers, to the extent that the information is relevant to the prospective employer's decision in the matter.

b. The information may be provided to the Justice Department, the Office of Personnel Management or other Federal agencies, or used by the Commission in connection with any investigation or administrative or legal proceeding involving any violation of Federal law or regulation thereunder.

c. Certain information will be provided, as required by law, to the Office of Child Support Enforcement, Administration for Children and Families, Department of Health and Human Services Federal Parent Locator System (FPLS) and Federal Tax Offset System to enable state jurisdictions to locate individuals and identify their income sources to establish paternity, establish and modify orders of support, and for enforcement action.

d. Certain information will be provided, as required by law, to the Office of Child Support Enforcement for release to the Social Security Administration for verifying social security numbers in connection with the operation of the FPLS by the Office of Child Support Enforcement.

e. Certain information will be provided, as required by law, to the Office of Child Support Enforcement for release to the Department of Treasury for purposes of administering the Earned Income Tax Credit Program (Section 32, Internal Revenue Code of 1986) and verifying a claim with respect to employment in a tax return.

Policies and Practices for Storing, Retrieving, Accessing, Retaining, and Disposing of Records in the System:

Storage:

Paper records in file folders, computer files, and computer printouts.

Retrievability:

By the name or social security number of the employee.

Safeguards:

Lockable cabinets for paper records. Computer records accessible through password protected security system.

Retention and Disposal:

Maintained according to retention schedules prescribed by the General Records Schedule for each type of personnel/payroll record.

System Manager(s) and Address:

The Office of Human Resources, except for records maintained under the Commission's rules of conduct and the Ethics in Government Act for which the General Counsel is the system manager. See “The Location of Systems of Records.”

Notification Procedure:

Individuals seeking to determine whether this system of records contains information about themselves or seeking access to records about themselves in this system of records, or contesting the content of records about themselves contained in this system of records should address written inquiry to the FOI, Privacy and Sunshine Acts Compliance Staff, Commodity Futures Trading Commission, Three Lafayette Centre, 1155 21st Street, NW., Washington, DC 20581. Telephone (202) 418-5105.

Record Source Categories:

Individual on whom the record is maintained; personnel office records; and miscellaneous sources.

CFTC-6

SYSTEM NAME:

Employee Travel and Transportation Records.

SYSTEM LOCATION:

This system is located in the Office of Financial Management, Three Lafayette Centre, 1155 21st Street, NW., Washington, DC 20581. In the Commission's headquarters office, transit subsidy applications and distribution records are maintained by the Department of Transportation.

CATEGORIES OF INDIVIDUALS COVERED BY THE SYSTEM:

Any Commission member, employee, witness, expert, advisory committee member or non-CFTC employee traveling on official business for the Commission and any CFTC employee who applies for and receives a transit subsidy.

CATEGORIES OF RECORDS IN THE SYSTEM:

Contains the name, address, destination, itinerary, mode and purpose of travel, dates, expenses, miscellaneous claims, amounts advanced, amounts claimed, and amounts reimbursed. Includes travel authorizations, travel vouchers, requests, receipts, invoices from credit card vendors' receipts, and other records. Transit subsidy records contain: In DC, the employee's name and the amount received; in other regions, the employee's name, home address, office, office phone, the last four digits of the social security number, the mode of transportation, and the monthly amount of transportation expenses. Transit subsidy distribution records in offices other than headquarters contain the employee's name and the amount received.

AUTHORITY FOR MAINTENANCE OF THE SYSTEM:

5 U.S.C. 5701-5752; 31 U.S.C. 1, et seq.; 44 U.S.C. 3101.

ROUTINE USES OF RECORDS MAINTAINED IN THE SYSTEM, INCLUDING CATEGORIES OF USERS AND THE PURPOSE OF SUCH USES:

The information may be provided to the Justice Department or other Federal agencies or used by the Commission in connection with any investigation, or administrative or legal proceeding involving any violation of Federal law or regulation thereunder.

POLICIES AND PRACTICES FOR STORING, RETRIEVING, ACCESSING, RETAINING, AND DISPOSING OF RECORDS IN THE SYSTEM:

STORAGE:

Paper records in file folders, computer files and computer printout.

RETRIEVABILITY:

By the name of the Commission member, employee witness, expert, advisory committee member or CFTC employee traveling on official business for the Commission or the name of the employee applying for or receiving a transit subsidy and by the last four digits of the social security number.

SAFEGUARDS:

Access to the computer records is protected by a security system. General building security limits access to paper records kept in files of support staff in the offices of travelers and in the Travel Office.

RETENTION AND DISPOSAL:

Travel Records are retained for six years after the period covered by the account. Records of travel that is non-Federally funded are retained for four years. Transit subsidy disbursement records are retained for three years. Transit subsidy applications maintained by CFTC are retained for three years after the employee is no longer in the program or the application is superceded.

SYSTEM MANAGER(s) AND ADDRESS:

Accounting Officer and Network Manager, Commodity Futures Trading Commission, Three Lafayette Centre, 1155 21st Street, NW., Washington, DC 20581.

NOTIFICATION PROCEDURE:

Individuals seeking to determine whether this system of records contains information about themselves, or seeking access to records about themselves in this system of records or contesting the content of records about themselves contained in this system of records should address written inquiry to the FOI, Privacy and Sunshine Acts Compliance Staff, Commodity Futures Trading Commission, Three Lafayette Centre, 1155 21st Street, NW., Washington, DC 20581. Telephone (202) 418-5105.

RECORD SOURCE CATEGORIES:

The individual on whom the record is maintained.

CFTC-7

SYSTEM NAME:

Exempted Informal Employment Complaint Files.

SYSTEM LOCATION:

Office of the Executive Director, Three Lafayette Centre, 1155 21st St. NW., Washington, DC 20581.

CATEGORIES OF INDIVIDUALS COVERED BY THE SYSTEM:

Individuals, including Commission employees, contractors or visitors, who are accused of sexual or other harassment in violation of employment discrimination laws or Commission employment policies, in particular the Commission's Sexual Harassment Policy.

CATEGORIES OF RECORDS IN THE SYSTEM:

Reports to Commission officials from supervisors, managers, or members of the Commission concerning complaints or concerning observed instances of sexual harassment; records relating to the complaint or incident, relating to any investigation, and to any disposition of the matter. The potential contents of the system are not limited to complaints or other material under the Commission's Sexual Harassment Policy. Complaints concerning other forms of employment discrimination would be made part of this system.

AUTHORITY FOR MAINTENANCE OF THE SYSTEM:

29 CFR 1614.102(a); 5 U.S.C. § 2302(b).

ROUTINE USES OF RECORDS MAINTAINED IN THE SYSTEM INCLUDING CATEGORIES OF USERS AND THE PURPOSES OF SUCH USES:

The four routine uses for this system are taken from the Commission's General Statement of Routine Uses: published in 64 Fed. Reg.33829: Number 1 (disclosed in an action where the Commission or a present or former member or employee of the Commission is a party); 2 (given to other federal or state agencies within the scope of their statutory mandates); 4 (disclosed in an investigation); and 6 (disclosed if relevant to a federal agency in connection with a personnel, contracting or licensing action concerning the person about whom the record is maintained).

POLICIES AND PRACTICES FOR STORING, RETRIEVING, ACCESSING, RETAINING AND DISPOSING OF RECORDS IN THE SYSTEM:

STORAGE:

Paper records stored in files.

RETRIEVABILITY:

Records are retrievable by the name of the employee or third party about whom a complaint or report has been made.

SAFEGUARDS:

In addition to general building security, paper records are maintained in areas accessible only to authorized personnel.

RETENTION AND DISPOSAL:

Indefinite.

SYSTEM MANAGER(s) AND ADDRESS:

Executive Director, 1155 21st Street, NW., Washington, DC 20581.

NOTIFICATION PROCEDURES:

Individuals seeking to determine whether the system of records contains information about themselves, seeking access to records about themselves in the system of records or contesting the content of records about themselves should address written inquiries to the Assistant Secretary for FOI, Privacy and Sunshine Acts Compliance, Commodity Futures Trading Commission, 1155 21st Street, NW., Washington, DC 20581.

RECORD ACCESS PROCEDURES:

See “Notification Procedures,” above.

CONTESTING RECORD PROCEDURES:

See “Notification Procedures,” above.

RECORD SOURCE CATEGORIES:

Internal complaints, internal investigations, reports of activity which apparently violates the Commission's Sexual Harassment Policy or other employment discrimination prohibitions, proceedings, as relevant, under the EEOC's Federal Sector Complaint Processing rules, 29 CFR part 1614.

CFTC-8

SYSTEM NAME:

Employment Applications.

SYSTEM LOCATION:

This system is located in the Office of Human Resources, Commodity Futures Trading Commission, Three Lafayette Centre, 1155 21st Street, NW., Washington, DC 20581.

CATEGORIES OF INDIVIDUALS COVERED BY THE SYSTEM:

Applicants for positions with the CFTC.

CATEGORIES OF RECORDS IN THE SYSTEM:

Contains the application and/or the resume of the applicant.

AUTHORITY FOR MAINTENANCE OF THE SYSTEM:

44 U.S.C. 3101.

ROUTINE USES OF RECORDS MAINTAINED IN THE SYSTEM, INCLUDING CATEGORIES OF USERS AND THE PURPOSES OF SUCH USES:

Information about these records is used in making inquiries concerning the qualifications of the applicant.

POLICIES AND PRACTICES FOR STORING, RETRIEVING, ACCESSING, RETAINING, AND DISPOSING OF RECORDS IN THE SYSTEM:

STORAGE:

Paper records in file folders.

RETRIEVABILITY:

By job announcement number. Summary information of applications is also available to staff of the Office of Human Resources through an automated applicant tracking system.

SAFEGUARDS:

Lockable cabinets for paper records. Access to applicant tracking system granted only to appropriate personnel.

RETENTION AND DISPOSAL:

Most applicant records are retained for two years, then destroyed. If a review is pending by the Office of Personnel Management (OPM) or other authority, the records are retained until that review is completed.

SYSTEM MANAGER(s) AND ADDRESS:

The Office of Human Resources, Commodity Futures Trading Commission, Three Lafayette Centre, 1155 21st Street, NW., Washington, DC 20581.

NOTIFICATION PROCEDURE:

Individuals seeking to determine whether this system of records contains information about themselves, or seeking access to records about themselves in this system of records, or contesting the content of records about themselves contained in this system of records should address written inquiry to the FOI, Privacy and Sunshine Acts Compliance Staff, Commodity Futures Trading Commission, Three Lafayette Centre, 1155 21st Street, NW., Washington, DC 20581. Telephone (202) 418-5105.

RECORD SOURCE CATEGORIES:

The individual on whom the record is maintained.

CFTC-10

SYSTEM NAME:

Exempted Investigatory Records.

SYSTEM LOCATION:

This system is located in the Office of General Counsel in the Commission's principal office and the Division of Enforcement in the Commission's principal and regional offices. See “The Location of Systems of Records.”

CATEGORIES OF INDIVIDUALS COVERED BY THE SYSTEM:

a. Individuals whom the staff has reason to believe have violated, are violating, or are about to violate the Commodity Exchange Act and the rules, regulations and orders promulgated thereunder.

b. Individuals whom the staff has reason to believe may have information concerning violations of the Commodity Exchange Act and the rules, regulations and orders promulgated thereunder.

c. Individuals involved in investigations authorized by the Commission concerning the activities of members of the Commission or its employees based upon formal complaint or otherwise.

CATEGORIES OF RECORDS IN THE SYSTEM:

Investigatory materials compiled for law enforcement purposes whose disclosure the Commission staff has determined could impair the effectiveness and orderly conduct of the Commission's regulatory and enforcement program or compromise Commission investigations. This system may include all or any part of the records developed during the investigation or inquiry, including data from Commission reporting forms, account statements and other trading records, exchange records, bank records and credit information, business records, reports of interviews, transcripts of testimony, exhibits to transcripts, affidavits, statements by witnesses, registration information, contracts and agreements. The system may also contain internal memoranda, reports of investigation, orders of investigation, subpoenas, warning letters, stipulations of compliance, correspondence, and other miscellaneous investigatory matters. The nature of the personal information contained in these files varies according to what is considered relevant by the attorney assigned based on the circumstances of the particular case under investigation, and may include personal background information about the individual involved, his education and employment history, information on prior violations, and a wide variety of financial information, as well as a detailed examination of the individual's activities during the period in question.

RETRIEVABILITY:

By assigned file name, which may be the matter number or the name of the person or firm that is the principal subject of the investigation. A summary index of material is also stored on the computer.

SAFEGUARDS:

In addition to normal office and building security, certain of these records are maintained in locked file cabinets and/or secured file rooms. All employees are made aware of the sensitive nature of investigatory information. Computer access is restricted to authorized personnel.

RETENTION AND DISPOSAL:

Maintained until exemption is no longer necessary, then filed in the appropriate nonexempt system.

If an investigatory matter is closed without institution of a case, the files, other than opening and closing reports, are shipped to off-site storage within 90 days of closing. Records are maintained in off-site storage for 5 years, and then destroyed.

If the Commission files an injunctive or administrative action or an appellate matter, the related investigatory files and records are retained in the office conducting the litigation; the files and records remain exempt from disclosure under the Privacy Act. When the case is concluded, the investigatory materials are stored and disposed of on the same schedule as the related non-exempt case files (see CFTC-16 and CFTC-17).

The Office of General Counsel retains copies of certain investigatory materials indefinitely.

SYSTEM MANAGER(S) AND ADDRESS:

Director, Division of Enforcement in the Commission's principal office or the Regional Counsel of the region where the investigation is being conducted, or the General Counsel. See “The Location of Systems of Records.”

RECORD SOURCE CATEGORIES:

a. Reporting forms and other information filed with the Commission; b. self-regulatory organizations; c. persons or firms covered by the Commission's registration requirements; d. Federal, state and local regulatory and law enforcement agencies; e. banks, credit organizations and other institutions; f. corporations; g. individuals having knowledge of the facts; h. attorneys; i. publications; j. courts; and k. miscellaneous sources.

Systems Exempted From Certain Provisions of the Act:

The records in this system have been exempted by the Commission from certain provisions of the Privacy Act of 1974 pursuant to the terms of the Privacy Act, 5 U.S.C. 552a(k)(2), and the Commission's rules promulgated thereunder, 17 CFR 146.12. These records are exempt from the notification procedures, records access procedures, and record contest procedures set forth in the system notices of other record systems, and from the requirement that the sources of records in the system be described.

CFTC-12

System Name:

Fitness Investigations.

System Location:

Records for floor brokers and floor traders with respect to matters commenced prior to August 1, 1994: Division of Trading and Markets, Commodity Futures Trading Commission, Three Lafayette Centre, 1155 21st Street, NW., Washington, DC 20581. Records for futures commission merchants, introducing brokers, commodity pool operators, commodity trading advisors, their respective associated persons and principals, with active registration status in any capacity on or after October 1, 1983; leverage transaction merchants and their associated persons and principals with active registration status as such on or after August 1, 1994; floor brokers and floor traders with active registration status as such on or after August 1, 1994; and Agricultural Trade Option Merchants (ATOMs) and their associated persons: National Futures Association (NFA), 200 West Madison Street, Suite 1400, Chicago, Illinois 60606-3447. (See also “Retention and Disposal,” infra.)

Categories of Individuals Covered by the System:

Persons who have applied or who may apply for registration as futures commission merchants, introducing brokers, commodity pool operators, commodity trading advisors, leverage transaction merchants and agricultural trade option merchants; persons listed or who may be listed as principals (as defined in 17 CFR 3.1); persons who have applied or who may apply for registration as associated persons of the foregoing firms; and floor brokers and floor traders.

Categories of Recors in the System:

Information pertaining to the fitness of the above-described individuals to engage in business subject to the Commission's jurisdiction. The system contains information in computerized images or alpha-numeric format and hardcopy format including registration forms, schedules and supplements, fingerprint cards which are required for registrants except ATOMs, correspondence relating to registration, and reports and memoranda reflecting information developed from various sources. In addition, the system contains records of each fitness investigation.

Authority for Maintenance of the System:

Sections 4f(a)(1) and (2), 4k(4), 4k(5), 4n(1), 8a(1)-(5), 8a(10), 8a(11), 17(o) and 19 of the Commodity Exchange Act as amended, 7 U.S.C. 6f(1), 6k(4), 6k(5), 6n(1), 12a(1)-(5), 12a(10), 12a(11), 21(o) and 23.

Routine Uses of Records Maintained in the System Including Categories of Users and the Purposes of Such Uses:

The routine uses applicable to all of the Commission's systems of records, including this system, are set forth under the “General Statement of Routine Uses.” In addition, the Commission may disclose information contained in this system of records as follows:

1. Information contained in this system of records may be disclosed to any person with whom an applicant or registrant is or plans to be associated as an associated person or affiliated as a principal.

2. Information contained in this system of records may be disclosed to any registered futures commission merchant with whom an applicant or registered introducing broker has or plans to enter into a guarantee agreement in accordance with Commission regulation 1.10 (17 CFR 1.10).

NFA may disclose information contained in those portions of this system of records, but any such disclosure must be made in accordance with NFA rules that have been approved by the Commission or permitted to become effective without Commission approval. The disclosure must be made under circumstances authorized by the Commission as consistent with the Commission's regulations and routine uses. No specific consent is required by an applicant or registered introducing broker to disclosure of information to the futures commission merchant with whom it has or plans to enter a guarantee agreement.

Policies and Practices for Storing, Retrieving, Accessing, Retaining, and Disposing of Records in the System:

Storage:

Paper records in file folders, computer files, computer printouts, index cards, and microfiche.

Retrievability:

By the name of the individual or firm, or by assigned identification number. Where applicable, the NFA's computer cross-indexes the individual's file to the name of the futures commission merchant, introducing broker, commodity trading advisor, commodity pool operator, leverage transaction merchant or agricultural trade option merchant with which the individual is associated or affiliated.

Safeguards:

General office security measures include secured rooms or premises with access limited to persons whose official duties require access. Access to computer systems is password protected and limited to authorized personnel only.

Retention and Disposal:

Since 1991, when a fitness investigation is opened by NFA, applications, biographical supplements, other forms, related documents, correspondence and reports are immediately scanned, indexed and stored using computer imaging software so the information may be retrieved and printed. Both hard copy and imaged records are maintained by NFA for 10 years after the individual becomes inactive or for 10 years after the firm with which the individual is associated becomes inactive. Records retained by CFTC are held for 10 years.

NFA also maintains an index and summary of the hard copy records of this system in a database, the Membership, Registration, Receivables System (MRRS). The MRRS records are maintained permanently by NFA, as applicable, and are updated periodically as long as the individual is active. MRRS records on persons who may apply may be maintained indefinitely; microfiche records produced for back up of MRRS records for 1995 and earlier are maintained permanently by NFA.

System Manager(s) and Address:

Director, Division of Trading and Markets, at the Commission's principal office, or a designee.For records held by NFA, the systems manager is the Vice President for Registration, National Futures Association, 200 West Madison Street, Suite 1400, Chicago, Illinois 60606-3447, or a designee.

Notification Procedure:

Individuals seeking to determine whether this system of records contains information about themselves, seeking access to records about themselves in this system of records or contesting the content of records about themselves should address written inquiry to the FOI, Privacy and Sunshine Acts Compliance Staff, Commodity Futures Trading Commission, Three Lafayette Centre, 1155 21st Street, NW., Washington, DC 20581. Telephone (202) 418-5105.

Individuals may also request registration information by telephone directly from the NFA information center at 1-800-621-3570 or 312-781-1410. Inquiries can also be made to NFA by FAX (312-781-1459) or via the Internet at inquiry@nfa.futures.org. NFA will query the MRRS system about current registration status and registration history, and will provide instructions on how to make written requests for copies of records. The Internet may be used to obtain information on current registration status and futures-related regulatory actions at www.nfa.futures.org by selecting “BASIC.”

Records Source Categories:

The individual or firm on whom the record is maintained; the individual's employer; Federal, state and local regulatory and law enforcement agencies; commodities and securities exchanges; National Futures Association; National Association of Securities Dealers; foreign futures and securities authorities and INTERPOL; and other miscellaneous sources. Computer records are prepared from the forms, supplements, attachments and related documents submitted to the Commission or NFA and from information developed during the fitness inquiry.

CFTC-13

System Name:

Interpretative, Exemptive and No-Action Files.

System Location:

Most files are prepared by the Division of Trading and Markets and are kept in that Office. Public copies of the interpretative, exemptive and no-action letters, which may be redacted, are also kept in the Secretariat and the Office of Public Affairs, and are also available on the CFTC website (www.cftc.gov). All offices are located at the Commodity Futures Trading Commission, Three Lafayette Centre, 1155 21st Street, NW., Washington, DC 20581.

Categories of Individuals Covered by the System:

Persons who have requested the Commission or its staff to provide interpretations, exemptions or no-action positions regarding the provisions of the Commodity Exchange Act or the Commission's regulations thereunder. The requests may have been made directly by an individual, or through the individual's attorney or other representative. A request may also be made on behalf of a registrant or other party that contains information about individuals employed by or affiliated with the registrant or other party. Registrants include futures commission merchants, introducing brokers, commodity pool operators, commodity trading advisors, agricultural trade option merchants, leverage transaction merchants, associated persons, floor brokers and floor traders.

Categories of Records in the System:

Requests for interpretative, exemptive and no-action letters, supplemental correspondence, any related internal memoranda, other supporting documents and the responses to the requests.

AUTHORITY FOR MAINTENANCE OF THE SYSTEM:

Section 2(a)(4) of the Commodity Exchange Act, 7 U.S.C. 4a(c), 44 U.S.C. 3101.

ROUTINE USES OF RECORDS MAINTAINED IN THE SYSTEM, INCLUDING CATEGORIES OF USERS AND THE PURPOSES OF SUCH USES:

a. Pursuant to the Commission's rules, 17 CFR 140.98, substantive interpretative, exemptive and no-action letters are made public and published by the Commission. Portions of such letters or information will be deleted or omitted to the extent necessary to prevent a clearly unwarranted invasion of personal privacy or to the extent they otherwise contain material considered nonpublic under the Freedom of Information Act and the Commission's rules implementing that Act.

b. Information in these files may be used as a reference in responding to later inquiries from the same party, in following up on earlier correspondence involving the same person, or when another person raises the same or similar issues.

c. Also see “General Statement of Routine Uses.”

POLICIES AND PRACTICES FOR STORING, RETRIEVING, ACCESSING, RETAINING AND DISPOSING OF RECORDS IN THE SYSTEM:

STORAGE:

Paper records in file folders. The redacted outgoing letter is maintained electronically on a Division of Trading and Markets shared drive.

RETRIEVABILITY:

The Division of Trading and Markets (T&M) has two tracking systems in place. One system is based on information contained in incoming correspondence. It may be searched by, among other things, the name of the individual who signed the request letter (the requester) and the firm of which the individual is a partner, owner, or employee (such as a law firm, operating company or registrant.) Searchable fields may also include subject matter information such as the names of the parties and trading entities cited in the document. T&M has a second tracking system which is based on information contained in published and unpublished letters issued by T&M since 1991. This system may be searched by the name of the requester, the firm with which he or she is affiliated and the names of the parties and trading entities involved. Public copy files in the Secretariat and the Office of Public Affairs are filed by the name of the requester, even if another party makes the request on behalf of the requester. If the name of the firm or individual on whose behalf the request is made is not known, the records are maintained in the name of the attorney or other representative making the request.

SAFEGUARDS:

Access to non-public records is limited to the offices where the records are maintained and is limited to authorized personnel.

RETENTION AND DISPOSAL:

Letters signed by the Commission and unique, precedent-setting letters signed by staff are maintained by CFTC for 20 years, then transferred to the National Archives and Records Administration as permanent records. Other letters signed by staff are destroyed after 15 years.

SYSTEM MANAGER(S) AND ADDRESS:

Director, Division of Trading and Markets; the Secretary to the Commission; and the Director, Office of Public Affairs. All system managers are located in the Commission's principal office. See “The Location of Systems of Records.”

NOTIFICATION PROCEDURE:

Individuals seeking to determine whether this system of records contains information about themselves, or seeking access to records about themselves in this system of records, or contesting the content of records about themselves contained in this system of records should address written inquiry to the FOI, Privacy and Sunshine Acts Compliance Staff, Commodity Futures Trading Commission, Three Lafayette Centre, 1155 21st Street, NW., Washington, DC 20581. Telephone (202) 418-5105.

RECORD SOURCE CATEGORIES:

Individuals, corporations, limited liability companies, other business organizations, or representatives seeking interpretations of, exemptions from, or no-action opinions on the provisions of the Commodity Exchange Act or Commission rules.

CFTC-15

SYSTEM NAME:

Large Trader Report Files.

SYSTEM LOCATION:

The copies of original reports and related correspondence are located in the CFTC office where filed. See further description below. Ancillary records and information (computer printout) may be located in any CFTC office. See “The Location of Systems of Records.”

CATEGORIES OF INDIVIDUALS COVERED BY THE SYSTEM:

Individuals holding reportable positions as defined in 17 CFR parts 17, 18 and 19.

CATEGORIES OF RECORDS IN THE SYSTEM:

1. Reports filed by the individual holding the reportable position:

a. Statements of Reporting Trader (CFTC Form 40) contains information described in part 18 of the Commission's rules and regulations, including the name, address, number, and principal occupation of the reporting trader, financial interest in and control of commodity futures accounts, and information about the trader's business associations;

b. Large trader reporting form (Series 03 Form). Contains information described in part 18 of the Commission's rules and regulations, including the trader's identifying number, previous open contracts, trades and deliveries that day, open contracts at the end of the day, and classification as to speculation or hedging (available on a non-routine basis by special call);

c. Large trader reporting form (Series 04 Form). Contains information described in part 19 of the Commission's rules and regulations, to be filed by merchants, processors and dealers in commodities that have federally imposed speculative position limits. Includes trader's identifying number, stocks owned, fixed price sale and purchase commitments. These reports are filed in the CFTC office in the city where the reporting trader is located. If there is no CFTC office in that city, the reports are filed according to specific instructions of the CFTC.

2. Reports to be filed by futures commission merchants, members of contract markets, foreign brokers and, for large option traders, by contract markets.

a. Identification of “Special Accounts” (CFTC Form 102). Contains material described in part 17 of the Commission's rules and regulations. Includes the name, address, and occupation of a customer whose accounts have reached the reporting level. Also includes the account number that the futures commission merchant uses to identify this customer on the firm's 01 report (see next paragraph), and whether the customer has control of or financial interest in accounts of other traders.

b. Large trader reporting form (Series 01 Form). Contains material described in part 17 of the Commission's rules and regulations, for each “special account.” Shows customer account number, reportable position held in each commodity future and option, and information concerning deliveries and exchanges of futures for physicals by persons with reportable positions. These reports are filed, mostly in machine-readable form, in the CFTC office in the city where the contract market involved is located. If there is no CFTC office in that city, they are filed in the office where the CFTC instructs that they be filed.

3. Computer records prepared from information on the forms described in items (1) and (2) above.

4. Correspondence and memoranda of telephone conversations between the Commission and the individual or between the Commission and other agencies dealing with matters of official business concerning the individual.

5. Other miscellaneous information, including intra-agency correspondence and memoranda concerning the individual and documents relating to official actions taken by the Commission against the individual.

6. Reports of Positions and Transactions of Clearing Member Firms. Information is provided in machine-readable form and contains the data prescribed in section 16 of the Commission's regulations. The information includes an identification number for each clearing member, open contracts at the firm for proprietary and customer accounts and transactions such as trades, exchanges of futures for physicals, delivery notices issued and received, and transfers and option exercises. The information is filed in the city where the exchange is located or as instructed by the Commission. Data is transmitted to the CFTC computer system and printouts are available at all CFTC offices.

AUTHORITY FOR MAINTENANCE OF THE SYSTEM:

Sections 4g, 4i, and 8 of the Commodity Exchange Act, 7 U.S.C. 6g, 6i, and 12.

ROUTINE USES OF RECORDS MAINTAINED IN THE SYSTEM, INCLUDING CATEGORIES OF USERS AND THE PURPOSES OF SUCH USES:

See “General Statement of Routine Uses.” In addition, information concerning traders and their activities may be disclosed and made public by the Commission to the extent permitted by law when deemed appropriate to further the practices and policies of the Commodity Exchange Act.

POLICIES AND PRACTICES FOR STORING, RETRIEVING, ACCESSING, RETAINING, AND DISPOSING OF THE RECORDS IN THE SYSTEM:

STORAGE:

Paper records in file folders, computer files, and computer printout.

RETRIEVABILITY:

Form 40, Form 102, correspondence and other miscellaneous information are maintained directly under the name of the reporting trader. The series 01, 03, and 04 forms are maintained by identifying code number. However, information from these forms is included in the computer and retrievable by individual identifier.

SAFEGUARDS:

General office security measures, with recent trading reports stored in lockable file cabinets. Access is limited to those whose official duties require access.

RETENTION AND DISPOSAL:

CFTC Form 40, CFTC Form 102, correspondence, memoranda, etc. are retained on the premises until the account has been inactive for 5 years and are then destroyed. Form 01, 03, and 04 reports are maintained for 6 months on the premises and then held in off-site storage for 5 years before being destroyed. The computer file is maintained for 10 years for Form 01, 03, and 04. Clearing member positions and transactions are maintained for 3 years. Trader code numbers and related information are maintained for 5 years after a trader becomes non-reportable. Account numbers assigned by an FCM are maintained on the system for 1 year after the account is no longer reported.

SYSTEM MANAGER(S) AND ADDRESS:

Chief, Surveillance Branch, in the region where the records are located. See “The Location of Systems of Records.”

NOTIFICATION PROCEDURE:

Individuals seeking to determine whether this system of records contains information about themselves, or seeking access to records about themselves in this system of records, or contesting the content of records about themselves contained in this system of records should address written inquiry to the FOI, Privacy and Sunshine Acts Compliance Staff, Commodity Futures Trading Commission, Three Lafayette Centre, 1155 21st Street, NW., Washington, DC 20581. Telephone (202) 418-5105. Include the code number assigned by the Commission for filing reports, the name of the futures commission merchant through whom traded, and the time period for which information is sought.

RECORD SOURCE CATEGORIES:

The individual on whom the record is maintained and futures commission merchants through whom the individual trades. Correspondence and memoranda prepared by the Commission or its staff. Correspondence from firms, agencies, or individuals requested to provide information on the individual.

CFTC-16

SYSTEM NAME:

Enforcement Case Files.

SYSTEM LOCATION:

This system is located in the Commission's principal and regional offices. Pending litigation files may be located in other participating offices. See “The Location of Systems of Records.”

CATEGORIES OF INDIVIDUALS COVERED BY THE SYSTEM:

Persons or firms against whom the Commission has taken enforcement action based on violations of the Commodity Exchange Act or the rules and regulations promulgated thereunder.

CATEGORIES OF RECORDS IN THE SYSTEM:

Copies of various public papers filed by or with the Commission or the courts in connection with administrative proceedings or injunctive actions brought by the Commission. Records include, as a minimum, a copy of the complaint, motions filed, exhibits and the final decision and order.

AUTHORITY FOR MAINTENANCE OF THE SYSTEM:

These files are necessary for the orderly and effective conduct of litigation authorized under the Commodity Exchange Act and other Federal statutes. See, e.g., dection 6c of the Commodity Exchange Act, 7 U.S.C. 13a-1, authorizing injunctive actions, and various provisions in that Act authorizing administrative actions.

ROUTINE USES OF RECORDS MAINTAINED IN THE SYSTEM, INCLUDING CATEGORIES OF USERS AND THE PURPOSES OF SUCH USES:

See “General Statement of Routine Uses.” The information in these files is generally a matter of public record and may be disclosed without restriction.

POLICIES AND PRACTICES FOR STORING, RETRIEVING, ACCESSING, RETAINING, AND DISPOSING OF RECORDS IN THE SYSTEM:

STORAGE:

Paper records in file folders or binders, disks, computer files, computer printouts. A summary index of material is also stored on the computer.

RETRIEVABILITY:

By case title or in some instances by docket number.

SAFEGUARDS:

General office security measures including secured premises with access limited to those whose official duties require access.

RETENTION AND DISPOSAL:

After an action is complete, the complaint and any final decision or dispositive orders are kept indefinitely at the headquarters office. Most case files are destroyed after 15 years; unique, precedent-setting cases are forwarded to the National Archives and Records Administration for permanent retention after 20 years.

SYSTEM MANAGER AND ADDRESS:

Director, Division of Enforcement at the Commission's principal office and Regional Counsel for the region where the records are located. See “The Location of Systems Records.”

NOTIFICATION PROCEDURE:

Individuals seeking to determine whether this system of records contains information about themselves or seeking access to records about themselves in this system of records, or contesting the content of records about themselves contained in this system of records should address written inquiry to the FOI, Privacy and Sunshine Acts Compliance Staff, Commodity Futures Trading Commission, Three Lafayette Centre, 1155 21st Street, N.W., Washington, D.C. 20581. Telephone (202) 418-5105.

RECORD SOURCE CATEGORIES:

The parties, their attorneys, the Commission's Proceedings Clerk's Office, the relevant court, and miscellaneous sources.

CFTC-17

SYSTEM NAME:

Litigation Files-OGC.

SYSTEM LOCATION:

This system is located in the Office of the General Counsel, Commodity Futures Trading Commission, Three Lafayette Centre, 1155 21st Street, NW., Washington, DC 20581.

CATEGORIES OF INDIVIDUALS COVERED BY THE SYSTEM:

Parties involved in litigation with the Commission or litigation in which the Commission has an interest including, but not limited to:

a. Administrative proceedings before the Commission, including appeals from staff determinations of requests made under FOIA and the Privacy Act;

b. Federal court cases to which the Commission is a party;

c. Litigation in which the Commission is participating as amicus curiae; and

d. Other cases involving issues of concern to the Commission, including those brought by other law enforcement and regulatory agencies and those brought by private parties.

CATEGORIES OF RECORDS IN THE SYSTEM:

Public papers filed in litigation as described above, including appellate and amicus curiae briefs, motions, and final decisions and orders.

AUTHORITY FOR MAINTENANCE OF THE SYSTEM:

The Commodity Exchange Act, 7 U.S.C. 1, et seq., entrusts the Commission with broad regulatory responsibilities over commodity futures transactions. In this connection, the Commission is authorized to bring both administrative proceedings and injunctive actions where there appear to have been violations of the Act. Furthermore, to effectuate the purposes of the Act, it is necessary that the Commission staff be familiar with developments in other actions brought by others that have implications in the commodity law areas.

ROUTINE USES OF RECORDS MAINTAINED IN THE SYSTEM, INCLUDING CATEGORIES OF USERS AND THE PURPOSES OF SUCH USES:

The information in these files is generally a matter of public record and may be disclosed without restriction. Also see “General Statement of Routine Uses.”

POLICIES AND PRACTICES FOR STORING, RETRIEVING, ACCESSING, RETAINING, AND DISPOSING OF RECORDS IN THE SYSTEM:

STORAGE:

Paper records in file folders, as well as disks, computer files and computer printouts.

RETRIEVABILITY:

Alphabetically by caption of the case.

SAFEGUARDS:

General office security measures including secured rooms or premises with access limited to those whose official duties require access. Computer access is also limited to authorized personnel.

RETENTION AND DISPOSAL:

Maintained in the active files until the action is completed, including final review at the appellate level. Thereafter, transferred to the inactive case files, where a skeletal record of pleadings, briefs, findings, and opinions and other particularly relevant papers may be maintained. These records are maintained on premises for five years, and then transferred to off-site storage. Most case files are destroyed after 15 years; unique precedent setting cases are destroyed after 20 years. A copy of some of the documents may be kept in precedent files for use in later legal research or preparation of filings in other matters.

SYSTEM MANAGER AND ADDRESS:

The Office of the General Counsel, Commodity Futures Trading Commission, Three Lafayette Centre, 1155 21st Street, NW., Washington, DC 20581.

NOTIFICATION PROCEDURE:

Individuals seeking to determine whether this system of records contains information about themselves, or seeking access to records about themselves in this system of records, or contesting the content of records about themselves contained in this system of records should address written inquiry to the FOI, Privacy and Sunshine Acts Compliance Staff, Commodity Futures Trading Commission, Three Lafayette Centre, 1155 21st Street, NW., Washington, DC 20581. Telephone (202) 418-5105.

RECORD SOURCE CATEGORIES:

The court or regulatory authority before which the action is pending, the attorneys for one of the named parties, and miscellaneous sources.

CFTC-18

SYSTEM NAME:

Logbook on Speculative Limit Violations.

SYSTEM LOCATION:

This system is located in the Commission's Chicago and New York regional offices. See “The Location of Systems of Records.”

CATEGORIES OF INDIVIDUALS COVERED BY THE SYSTEM:

Individuals who have exceeded speculative limits in a particular fiscal year.

CATEGORIES OF RECORDS IN THE SYSTEM:

A listing, by year, of the violations of speculative limits imposed by the Commission and the exchanges. It includes the trader's assigned code number, the commodity involved, the name of the trader, the type of violation, the date of the violation, the date the violation ceased, and the action taken. Copies of warning letters and replies pertaining to the violation listed are maintained with the logbook.

AUTHORITY FOR MAINTENANCE OF THE SYSTEM:

Sections 4i and 8 of the Commodity Exchange Act, 7 U.S.C. 6i and 12.

ROUTINE USES OF RECORDS MAINTAINED IN THE SYSTEM, INCLUDING CATEGORIES OF USERS AND THE PURPOSES OF SUCH USES:

See “General Statement of Routine Uses.”

POLICIES AND PRACTICES FOR STORING, RETRIEVING, ACCESSING, RETAINING, AND DISPOSING OF RECORDS IN THE SYSTEM:

STORAGE:

Paper records in file folders.

RETRIEVABILITY:

By fiscal year, and within each year by the name of the violator.

SAFEGUARDS:

General office security measures including secured rooms or premises with access limited to those whose official duties require access.

RETENTION AND DISPOSAL:

Maintained on the premises for 5 years, then held off-site for 15 years before being destroyed.

SYSTEM MANAGER(S) AND ADDRESS:

Chief, Surveillance Branch, Central Regional Office, Commodity Futures Trading Commission, 300 South Riverside Dr., Suite 1600 North, Chicago, Illinois 60606; Chief, Surveillance Branch, Eastern Regional Office, Commodity Futures Trading Commission, One World Trade Center, Suite 3747, New York, New York 10048.

NOTIFICATION PROCEDURE:

Individuals seeking to determine whether this system of records contains information about themselves or seeking access to records about themselves contained in this system of records or contesting the content of records about themselves contained in this system of records should address written inquiry to the FOI, Privacy and Sunshine Acts Compliance Staff, Commodity Futures Trading Commission, Three Lafayette Centre, 1155 21st Street, NW., Washington, DC 20581. Telephone (202) 418-5105.

RECORD SOURCE CATEGORIES:

Series 03 reports filed by traders and series 01 reports filed by FCMs. Correspondence prepared by the Commission or by the individual or individual's representative.

CFTC-20

SYSTEM NAME:

Registration of Floor Brokers, Floor Traders, Futures Commission Merchants, Introducing Brokers, Commodity Trading Advisors, Commodity Pool Operators, Leverage Transaction Merchants, Agricultural Trade Option Merchants and Associated Persons.

SYSTEM LOCATION:

National Futures Association (NFA), 200 West Madison Street, Suite 1400, Chicago, Illinois 60606-3447.

CATEGORIES OF INDIVIDUALS COVERED BY THE SYSTEM:

Persons who have applied or who may apply for registration as futures commission merchants, introducing brokers, commodity pool operators, commodity trading advisors, leverage transaction merchants and agricultural trade option merchants (ATOMs); persons listed or who may be listed as principals (as defined in 17 CFR 3.1); persons who have applied or who may apply for registration as associated persons of the foregoing firms; and floor brokers and floor traders.

CATEGORIES OF RECORDS IN THE SYSTEM:

Information pertaining to the registration and fitness of the above-described individuals, except ATOMs, to engage in business subject to the Commission's jurisdiction. Information on ATOMs includes only the names and registration status of ATOMs and their associated persons. The system includes registration forms, schedules, and supplements; correspondence relating to registration; and reports and memoranda reflecting information developed from various sources.

Computerized systems, consisting primarily of information taken from the registration forms, are maintained by NFA. Computer records include the name, date and place of birth, social security number (optional), exchange trading privileges (floor brokers and floor traders only), firm affiliation, and the residence or business address, or both, of each associated person, floor broker, floor trader and principal. Computer records also include information relating to name, trade name, principal office address, records address, names of principals and branch managers of futures commission merchants, introducing brokers, commodity pool operators, commodity trading advisors, leverage transaction merchants, and agricultural trade option merchants.

Directories, when produced, list the name, business address, and exchange affiliation of all registered floor brokers and the name and firm affiliation of all associated persons and principals. These directories are sold to the public by NFA. Registration forms and biographical supplements, except for any confidential information on supplementary attachments to the forms, are publicly available for disclosure, inspection and copying.

AUTHORITY FOR MAINTENANCE OF THE SYSTEM:

Sections 4f(a)(1) and (2), 4k(4), 4k(5), 4n(1), 8a(1), 8a(5), 8a(10) and 19 of the Commodity Exchange Act as amended, 7 U.S.C. 6f(1), 6k(4), 6k(5), 6n(1), 12a(1), 12a(5), 12a(10), and 23.

ROUTINE USES OF THE RECORDS MAINTAINED IN THE SYSTEM, INCLUDING CATEGORIES OF USERS AND THE PURPOSES OF SUCH USES:

See “General Statement of Routine Uses.” In addition, the Commission may disclose information contained in this system of records as follows:

1. Information contained in this system of records may be disclosed to any person with whom an applicant or registrant is or plans to be associated as an associated person or affiliated as a principal.

2. Information contained in this system of records may be disclosed to any registered futures commission merchant with whom an applicant or registered introducing broker has entered or plans to enter into a guarantee agreement in accordance with Commission regulation 1.10 (17 CFR 1.10).

NFA may disclose information contained in those portions of this system of records maintained by NFA, but any such disclosure must be made in accordance with Commission-approved NFA rules and that have been approved by the Commission or permitted to become effective without Commission approval. Disclosures must be made under circumstances authorized by the Commission as consistent with the Commission's regulations and routine uses. No specific consent is required by an applicant or registered introducing broker to disclosure of information to the futures commission merchant with whom it has or plans to enter a guarantee agreement.

POLICIES AND PRACTICES FOR STORING, RETRIEVING, ACCESSING, RETAINING, AND DISPOSING OF RECORDS IN THE SYSTEM:

STORAGE:

Paper records in file folders, computer files, computer printouts, indexed cards, and microfiche.

RETRIEVABILITY:

By the name of the individual or firm, or by assigned identification number. Where applicable, the NFA's computer cross-indexes the individual's primary registration file to the name of the futures commission merchant, introducing broker, commodity trading advisor, commodity pool operator, leverage transaction merchant or agricultural trade option merchant with whom the individual is associated or affiliated.

SAFEGUARDS:

General office security measures including secured rooms or premises with access limited to those whose official duties require access. Access to computer files limited to authorized personnel.

RETENTION AND DISPOSAL:

Hard copies of applications, biographical supplements, other forms, related documents and correspondence are maintained on the NFA's premises, as applicable, for two years after the individual's registration(s), or that of the firm(s) with which the individual is associated as an associated person or affiliated as a principal, becomes inactive. Hard copies of records are then stored at an appropriate site for eight additional years before being destroyed.

NFA also maintains an index and summary of the hard copy records of this system in a database, the Membership, Registration, Receivables System (MRRS). The MRRS records are maintained permanently and are updated periodically as long as the individual has a registration application pending, is registered in any capacity, or is affiliated with any registrant in any capacity. MRRS records on persons who may apply may be maintained indefinitely.

SYSTEM MANAGER(S) AND ADDRESS:

Director, Division of Trading and Markets, or designee, Commodity Futures Trading Commission, Three Lafayette Centre, 1155 21st Street, NW., Washington, DC 20581, and Vice President for Registration, National Futures Association, 200 West Madison Street, Suite 1400, Chicago, Illinois 60606-3447.

NOTIFICATION PROCEDURE:

Individuals seeking to determine whether this system of records contains information about themselves, seeking access to records about themselves in this system of records, or contesting the content of records about themselves should address written inquiry to the FOI, Privacy and Sunshine Acts Compliance Staff, Commodity Futures Trading Commission, Three Lafayette Centre, 1155 21st Street, NW., Washington, DC 20581. Telephone (202) 418-5105.

Individuals may also request registration information by telephone from the NFA information center at 1-800-621-3570 or 312-781-1410. Inquiries can also be made to NFA by FAX (312-781-1459) or via email at inquiry@nfa.futures.org. NFA will query the MRRS system about current registration status and registration and disciplinary history, and will provide instructions on how to make written requests for copies of records. The Internet may be used to obtain information on current registration status and futures-related regulatory actions at www.nfa.futures.org by selecting “BASIC.”

RECORD SOURCE CATEGORIES:

The individual or firm on whom the record is maintained; the individual's employer; and other miscellaneous sources. The computer records are prepared from the forms, supplements, attachments and related documents submitted to the NFA.

CFTC-28

SYSTEM NAME:

SRO Disciplinary Action File.

SYSTEM LOCATION:

National Futures Association (NFA), 200 West Madison Street, Suite 1400, Chicago, Illinois 60606-3447.

CATEGORIES OF INDIVIDUALS COVERED BY THE SYSTEM:

Persons who have been suspended, expelled, disciplined, or denied access to or by an self-regulatory organization (SRO).

CATEGORIES OF RECORDS IN THE SYSTEM:

Information pertaining to a disciplinary or other adverse action taken by an SRO, including the name of the person against whom such action was taken, the action taken, and the reasons therefore. The information is maintained on a computerized system, the Background Affiliation Status Information Center (BASIC), and consists primarily of data furnished by SROs.

AUTHORITY FOR MAINTENANCE OF THE SYSTEM:

Section 8c(1)(B) of the Commodity Exchange Act, 7 U.S.C. 12c(1)(B).

ROUTINE USES OF RECORDS MAINTAINED IN THE SYSTEM, INCLUDING CATEGORIES OF USERS AND THE PURPOSES OF SUCH USES:

See “General Statement of Routine Uses.”

POLICIES AND PRACTICES FOR STORING, RETRIEVING, ACCESSING, RETAINING, AND DISPOSING OF RECORDS IN THE SYSTEM:

STORAGE:

Computer files and printouts.

RETRIEVABILITY:

By the name of the individual or firm, or by an NFA identification number.

SAFEGUARDS:

General office security measures. Computer access limited to authorized personnel.

RETENTION AND DISPOSAL:

Retained for ten years.

SYSTEM MANAGER(S) AND ADDRESS:

Associate Director, Contract Markets Section, Commodity Futures Trading Commission, Three Lafayette Centre, 1155 21st Street, NW., Washington, DC 20581.

NOTIFICATION PROCEDURE:

Individuals seeking to determine whether this system of records contains information about themselves, or seeking access to records about themselves in this system of records, or contesting the content of records about themselves contained in this system of records should address written inquiry to the FOI, Privacy and Sunshine Acts Compliance Staff, Commodity Futures Trading Commission, Three Lafayette Centre, 1155 21st Street NW., Washington, DC 20581. Telephone (202) 418-5105.

RECORD SOURCE CATEGORIES:

Self-regulatory organizations notifying the Commission of disciplinary or other adverse actions taken.

CFTC-29

SYSTEM NAME:

Reparations Complaints.

SYSTEM LOCATION:

This system is located in the Office of Proceedings, Commodity Futures Trading Commission, Three Lafayette Centre, 1155 21st Street, NW., Washington, DC 20581.

CATEGORIES OF INDIVIDUALS COVERED BY THE SYSTEM:

Individuals filing customer reparations complaints, as well as the firms and individuals named in the complaints.

CATEGORIES OF RECORDS IN THE SYSTEM:

Reparations complaints, answers, supporting documentation and correspondence filed with the Office of Proceedings. If the complaint is forwarded for decision by an administrative law judge or proceedings officer, records become part of CFTC-3, Docket Files.

AUTHORITY FOR MAINTENANCE OF THE SYSTEM:

Section 14 of the Commodity Exchange Act, 7 U.S.C. 18.

ROUTINE USES OF RECORDS MAINTAINED IN THE SYSTEM, INCLUDING CATEGORIES OF USERS AND THE PURPOSES OF SUCH USES:

These records are used in the conduct of the Commission's reparations program. Also see “General Statement of Routine Uses.”

POLICIES AND PRACTICES FOR STORING, RETRIEVING, ACCESSING, RETAINING, AND DISPOSING OF RECORDS IN THE SYSTEM:

STORAGE:

Paper records in file folders, computer files, computer printouts.

RETRIEVABILITY:

By docket number and cross-indexed by the name of the complainant and respondent.

SAFEGUARDS:

General office security including secured rooms and, in appropriate cases, lockable file cabinets, with access to offices and computers limited to authorized personnel.

RETENTION AND DISPOSAL:

The records are maintained for 10 years after the case is closed, except that complaints, decisions, and Commission opinions and orders, are retained indefinitely.

SYSTEM MANAGER(S) AND ADDRESS:

Office of Proceedings, Complaints Section, Commodity Futures Trading Commission, Three Lafayette Centre, 1155 21st Street, NW., Washington, DC 20581.

NOTIFICATION PROCEDURE:

Individuals seeking to determine whether this system of records contains information about themselves, or seeking access to records about themselves in this system of records, or contesting the content of records about themselves contained in this system of records should address written inquiry to the FOI, Privacy and Sunshine Acts Compliance Staff, Commodity Futures Trading Commission, Three Lafayette Centre, 1155 21st Street, NW., Washington, DC 20581. Telephone (202) 418-5105.

RECORD SOURCE CATEGORIES:

Persons filing reparations complaints or answers.

CFTC-30

SYSTEM NAME:

Open Commission Meetings-CFTC.

SYSTEM LOCATION:

This system is located in the Office of the Secretariat, Commodity Futures Trading Commission, Three Lafayette Centre, 1155 21st Street, NW., Washington, DC 20581.

CATEGORIES OF INDIVIDUALS COVERED BY THE SYSTEM:

Persons who are the subject of discussion at a Commission meeting open for public observation.

CATEGORIES OF RECORDS IN THE SYSTEM:

Information pertaining to the individuals who are the subject of discussion at an open Commission meeting.

AUTHORITY FOR MAINTENANCE OF THE SYSTEM:

Government in the Sunshine Act, 5 U.S.C. 552b(f) and Commission regulations at 17 CFR 147.7.

ROUTINE USES OF RECORDS MAINTAINED IN THE SYSTEM, INCLUDING CATEGORIES OF USERS AND THE PURPOSES OF SUCH USES:

The information in these files is a matter of public record and may be disclosed without restriction. Also see “General Statement of Routine Uses.”

POLICIES AND PRACTICES FOR STORING, RETRIEVING, ACCESSING, RETAINING AND DISPOSING OF RECORDS IN THE SYSTEM:

STORAGE:

Paper records in file folders; computer memory; computer printouts; microfiche; and audiocassette tapes.

RETRIEVABILITY:

The indices to the recordings, transcripts, and minutes of all Commission meetings are organized by year in chronological order. Each yearly index is further indexed in alphabetical order according to subject matter, including the names of individuals, firms, exchanges or other topics that are discussed at the meetings.

SAFEGUARDS:

Maintained in lockable file cabinets on secured premises or password-protected computer systems, with access limited to those whose official duties require access.

RETENTION AND DISPOSAL:

Maintained on the premises for at least the statutory period required by the Sunshine Act and Commission regulations (i.e., at least two years after each meeting or at least one year after the conclusion of any agency proceeding with respect to which the meeting or portion of the meeting was held, whichever is later); transferred to the National Archives as permanent records when 20 years old.

SYSTEM MANAGER(S) AND ADDRESS:

Secretary of the Commission, Commodity Futures Trading Commission, Three Lafayette Centre, 1155 21st Street, NW., Washington, DC 20581.

NOTIFICATION PROCEDURES:

Individuals seeking to determine whether this system of records contains information about themselves, seeking access to records about themselves in this system of records, or contesting the content of records about themselves contained in this system of records should address written inquiry to the FOIA, Privacy and Sunshine Acts Compliance Staff, Commodity Futures Trading Commission, Three Lafayette Centre, 1155 21st Street, NW., Washington, DC 20581. Telephone (202) 418-5105.

RECORD SOURCE CATEGORIES:

1. The staff in one or more Divisions generates the information recorded during Commission meetings concerning individuals who are the subject of discussion at the meetings.

2. The indices are prepared from the recordings, transcripts and/or minutes.

CFTC-31

SYSTEM NAME:

Exempted Closed Commission Meetings-CFTC

SYSTEM LOCATION:

This system is located in the Office of the Secretariat, Commodity Futures Trading Commission, Three Lafayette Centre, 1155 21st Street, NW., Washington, DC 20581.

CATEGORIES OF INDIVIDUALS COVERED BY THE SYSTEM:

Persons who are the subject of discussion at a closed Commission meeting.

CATEGORIES OF RECORDS IN THE SYSTEM:

Information pertaining to individuals who are the subject of discussion at a closed Commission meeting. This information consists of (a) investigatory materials compiled for law enforcement purposes whose disclosure the Commission has determined could impair the effectiveness and orderly conduct of the Commission's regulatory, enforcement and contract market surveillance programs or compromise Commission investigations, or (b) investigatory materials compiled solely for the purpose of determining suitability, eligibility, or qualifications for employment with the Commission to the extent that it identifies a confidential source.

AUTHORITY FOR MAINTENANCE OF THE SYSTEM:

Government in the Sunshine Act, 5 U.S.C. 552b(f), and Commission regulations at 17 CFR 147.7.

ROUTINE USES OF RECORDS MAINTAINED IN THE SYSTEM, INCLUDING CATEGORIES OF USERS AND THE PURPOSES OF SUCH USES:

See “General Statement of Routine Uses.”

POLICIES AND PRACTICES FOR STORING, RETRIEVING, ACCESSING, RETAINING AND DISPOSING OF RECORDS IN THE SYSTEM:

STORAGE:

Paper records in file folders; computer memory; computer printouts; microfiche; and audiocassette tapes.

RETRIEVABILITY:

The indices to the recordings, transcripts, and minutes of all Commission meetings are organized by year in chronological order. Each yearly index is further indexed in alphabetical order according to subject matter, including the names of individuals, firms, exchanges or other topics, which are discussed at the meetings.

SAFEGUARDS:

Maintained in lockable file cabinets on secured premises or password-protected computer systems, with access limited to those whose official duties require access.

RETENTION AND DISPOSAL:

Maintained on the premises for at least the statutory period required by the Sunshine Act and Commission regulations (i.e., at least two years after each meeting or at least one year after the conclusion of any agency proceeding with respect to which meeting was held, whichever is later); transferred to the National Archives as permanent records when 20 years old.

SYSTEM MANAGER(S) AND ADDRESS:

Secretary of the Commission, Commodity Futures Trading Commission, Three Lafayette Centre, 1155 21st Street, NW., Washington, DC 20581.

SYSTEM EXEMPTED FROM CERTAIN PROVISIONS OF THE ACT:

The records in this system have been exempted by the Commission from certain provisions of the Privacy Act of 1974 pursuant to the terms of the Privacy Act, 5 U.S.C. 552a, and the Commission's rules promulgated thereunder, 17 CFR 146.12. These records are exempted from the notification procedures, record access procedures and record contest procedures set forth in the system notices of other record systems, and from the requirement that the source of records in the system be described.

CFTC-32

SYSTEM NAME:

Exempted Office of the Inspector General Investigative Files.

SYSTEM LOCATION:

Office of the Inspector General, Commodity Futures Trading Commission, Three Lafayette Centre, 1155 21st Street NW., Washington, DC 20581.

CATEGORIES OF INDIVIDUALS COVERED BY THE SYSTEM:

Individuals who are part of an investigation of fraud and abuse concerning Commission programs or operations.

CATEGORIES OF RECORDS IN THE SYSTEM:

All correspondence relevant to the investigation; all internal staff memoranda, copies of all subpoenas issued during the investigation, affidavits, statement from witnesses, transcripts of testimony taken in the investigation and accompanying exhibits; documents and records or copies obtained during the investigation; opening reports, progress reports and closing reports; and an index of individuals investigated.

AUTHORITY FOR MAINTENANCE OF THE SYSTEM:

Public Law 95-452, as amended, 5 U.S.C. App. 3.

ROUTINE USES OF RECORDS MAINTAINED IN THE SYSTEM, INCLUDING CATEGORIES OF USERS AND THE PURPOSES OF SUCH USES:

1. The information in the system may be used or disclosed by the Commission in any administrative proceeding before the Commission, in any injunctive action, or in any other action or proceeding authorized under the Commodity Exchange Act or the Inspector General Act of 1978 in which the Commission or any member of the Commission or its staff participates as a party or the Commission participates as amicus curiae.

2. In any case in which records in the system indicates a violation or potential violation of law, whether civil, criminal or regulatory in nature, whether arising by general statute or particular program statute, or by regulation, rule or order issued pursuant thereto, the relevant records may be referred to the appropriate agency, whether Federal, foreign, state or local, charged with enforcing or implementing the statute, regulation, rule or order.

3. In any case in which records in the system indicate a violation or potential violation of law, whether civil, criminal or regulatory in nature, the relevant records may be referred to the appropriate board of trade designated as a contract market by the Commission or to the appropriate futures association registered with the Commission, if the Office of the Inspector General has reason to believe this will assist the contract market or registered futures association in carrying out its self-regulatory responsibilities under the Commodity Exchange Act, 7 U.S.C. 1 et seq., and regulations, rules or orders issued pursuant thereto, and such records may also be referred to any national securities exchange or national securities association registered with the Securities and Exchange Commission, to assist those organizations in carrying out their self-regulatory responsibilities under the Securities Exchange Act of 1934, 15 U.S.C. 78a et seq., and regulations, rules or orders issued pursuant thereto.

4. The information may be given or shown to anyone during the course of an OIG investigation if the staff has reason to believe that disclosure to the person will further the investigation. Information may also be disclosed to Federal, foreign, state or local authorities in order to obtain information or records relevant to an OIG investigation.

5. The information may be given to independent auditors or other private firms with which the OIG has contracted to carry out an independent audit, or to collate, aggregate or otherwise refine data collected in the system of records. These contractors will be required to maintain Privacy Act safeguards with respect to such records.

6. The information may be disclosed to a Federal, foreign, state or local government agency where records in either system of records pertain to an applicant for employment, or to a current employer of that agency where the records are relevant and necessary to an agency decision concerning the hiring or retention of an employee or disciplinary or other administrative action concerning an employee.

7. The information may be disclosed to a Federal, foreign, state, or local government agency in response to its request in connection with the issuance of a security clearance, the letting of a contract, or the issuance of a license, grant or other benefit by the requesting agency, to the extent that the information is relevant and necessary to the requesting agency's decision in the matter.

8. The information may be disclosed to the Department of Justice or other counsel to the Commission for legal advice or to pursue claims and to government counsel when the defendant in litigation is (a) any component of the Commission or any member or employee of the Commission in his or her official capacity, or (b) the United States or any agency thereof. The Office of the Inspector General may also disclose information to counsel for any Commission member or employee in litigation or in anticipation of litigation in his or her individual capacity where the Commission or the Department of Justice agrees to represent such employee or authorizes representation by another.

POLICIES AND PRACTICES FOR STORING, RETRIEVING, ACCESSING, RETAINING, AND DISPOSING OF RECORDS IN THE SYSTEM:

STORAGE:

Paper records in file folders, computer diskettes and computer files.

RETRIEVABILITY:

Investigative files are retrieved by the subject matter of the investigation or by case file number. An index provides a cross-reference on individuals investigated.

SAFEGUARDS:

The records are kept in limited access areas during duty hours and in file cabinets in locked offices at all other times. These records are available only to those persons whose official duties require such access. Computer files are available only to authorized personnel.

RETENTION AND DISPOSAL:

The Office of the Inspector General Investigative Files and the index to the files are destroyed twenty years after the case is closed.

SYSTEM MANAGER(S) AND ADDRESS:

Inspector General, Office of the Inspector General, Commodity Futures Trading Commission, Three Lafayette Centre, 1155 21st Street, NW., Washington, DC 20581.

NOTIFICATION PROCEDURE:

Individuals seeking to determine whether the system of records contains information about themselves, seeking access to records about themselves in the systems of records, or contesting the content of records about themselves, should address written inquiry to the FOI, Privacy and Sunshine Acts Compliance Staff, Commodity Futures Trading Commission, Three Lafayette Centre, 1155 21st Street, NW., Washington, DC 20581.

RECORD SOURCE CATEGORIES:

Information in these records is supplied by: Individuals including, where practicable, those to whom the information relates; witnesses, corporations and other entities; records of individuals and of the Commission; records of other entities; Federal, foreign, state or local bodies and law enforcement agencies; documents, correspondence relating to litigation, and transcripts of testimony; and miscellaneous other sources.

SYSTEM EXEMPTIONS FROM CERTAIN PROVISIONS OF THE PRIVACY ACT:

Under 5 U.S.C. 552a(j)(2), the Office of the Inspector General Investigative Files are exempted from 5 U.S.C. 552a except subsections (b), (c)(1), and (2), (e)(4)(A) through (F), (e)(6), (7), (9), (10), and (11), and (i) to the extent the system of records pertains to the enforcement of criminal laws. Under 5 U.S.C. 552(k)(2), the Office of the Inspector General Investigative Files are exempted from 5 U.S.C. 552a except subsections (c)(3), (d), (e)(1), (e)(4)(G), (H), and (I) and (f) to the extent the system of records consists of investigatory material compiled for law enforcement purposes. These exemptions are contained at 17 CFR 146.13.

CFTC-33

SYSTEM NAME:

Electronic Key Card Usage.

SYSTEM LOCATION:

Office of Administrative Services, Commodity Futures Trading Commission, Three Lafayette Centre, 1155 21st Street, NW., Washington, DC 20581, and Chicago Regional Office, 300 Riverside Plaza, Suite 1600 North, Chicago, IL 60606.

CATEGORIES OF INDIVIDUALS COVERED BY THE SYSTEM:

Authorized key cardholders in headquarters and the Chicago Regional Office, including CFTC employees, on site contractors, visitors, or representatives of landlords.

CATEGORIES OF RECORDS IN THE SYSTEM:

Computer printouts showing name of assigned user, key card number, access level, and status. In headquarters, on request to the landlord, the landlord provides usage information on time and location of key card use by key card user. In Chicago, this information is maintained by the Office of Administrative Services and is accessed only in the event of a building security problem.

AUTHORITY FOR MAINTENANCE OF THE SYSTEM:

Sections 2(a)(2)(A)(b) and 12(b)(3), Commodity Exchange Act, 7 U.S.C. 4a(e) and 16(b)(3).

ROUTINE USES OF RECORDS MAINTAINED IN THE SYSTEM, INCLUDING CATEGORIES OF USERS AND THE PURPOSES OF SUCH USES:

See the Commission's “General Statement of Routine Uses,” Nos. 1, 2, 6 and 7. In addition, information contained in this system may be disclosed by the Commission (1) to any person in connection with architectural, security or other surveys concerning use of office space and (2) to employees and contractors for the purpose of maintenance or service of data processing systems.

POLICIES AND PRACTICES FOR STORING, RETRIEVING, ACCESSING, RETAINING AND DISPOSING OF RECORDS IN THE SYSTEM:

STORAGE:

Paper records in file folders, computer diskettes and computer files.

RETRIEVABILITY:

By name of the subject, by assigned key card number, by time period and by entry point.

SAFEGUARDS:

In the headquarters office, information may be requested from the Commission's landlords' databases only by the Director of the Office of Administrative Services, or his/her designee, and the Commission maintains all key card usage records in limited access areas at all times. In Chicago, key card information is maintained in a locked area, with access restricted to staff members of the Office of Administrative Services.

RETENTION AND DISPOSAL:

In accordance with the general record schedules and the Commission's record management handbook the records in the system are considered temporary. Paper records are destroyed when no longer required or after two years, whichever is shorter. Computer diskettes are destroyed when no longer required or after three years, whichever is shorter.

SYSTEM MANAGER(S) AND ADDRESS:

Director, Office of Administrative Services, Commodity Futures Trading Commission, Three Lafayette Centre, 1155 21st Street, NW., Washington, DC 20581.

Notification Procedures:

Individuals seeking to determine whether the system of records contains information about themselves, seeking access to records about themselves in the system of records or contesting the content of records about themselves should address written inquiry to the FOI, Privacy and Sunshine Acts Compliance Staff, Commodity Futures Trading Commission, Three Lafayette Centre, 1155 21st Street, NW, Washington, DC 20581. The system of records and the notification, access and challenge procedures apply only to records of key card usage in the Commission's actual possession. None of these applies to any information solely in a landlord's possession.

Record Source Categories:

The Commission's landlord in headquarters and the Chicago Regional Office provide information on name of assigned user, key card number, access level, and status is provided by the landlord to the Commission on a weekly basis. The landlords provide information on usage on request.

CFTC-34

SYSTEM NAME:

Telephone System.

SYSTEM LOCATION:

Monthly billing records for long-distance calls and calling card calls are located in the Office of Information Resources Management (OIRM), Commodity Futures Trading Commission, Three Lafayette Centre, 1155 21st Street, NW., Washington, DC 20581. OIRM in DC and the administrative staff in each regional office keep the most current record of the phone numbers assigned to individual employees and contractors. OIRM keeps records of calling card numbers assigned to all individual employees of the Commission.

CATEGORIES OF INDIVIDUALS COVERED BY THE SYSTEM:

Individuals (generally Commission employees and on site contractor personnel) who make telephone calls from Commission telephones or use government issued calling cards.

CATEGORIES OF RECORDS IN THE SYSTEM:

Records relating to the use of Commission telephones or calling cards to place calls; records indicating assignment of telephone or calling card numbers to employees; and records relating to long-distance telephone call detail information.

AUTHORITY FOR MAINTENANCE OF THE SYSTEM:

5 U.S.C. 301 and 41 CFR part 101-35.

ROUTINE USES OF RECORDS MAINTAINED IN THE SYSTEM INCLUDING CATEGORIES OF USERS AND THE PURPOSES OF SUCH USES:

See the Commission's “General Statement of Routine Uses,” Nos. 1 and 2. In addition, records and data may be disclosed as necessary (1) to representatives of the General Services Administration or the National Archives and Records Administration who are conducting records management inspections under the authority of 44 U.S.C. 2904 and 2906; (2) to a telecommunications company or consultant providing telecommunications support to permit servicing the account.

POLICIES AND PRACTICES FOR STORING, RETRIEVING, ACCESSING, RETAINING, AND DISPOSING OF RECORDS IN THE SYSTEM:

STORAGE:

Records are stored on computer printouts and CDs.

RETRIEVABILITY:

Records are retrievable by a Commission telephone or calling card number.

SAFEGUARDS:

In addition to general building security, records are maintained in limited access areas at all times.

RETENTION AND DISPOSAL:

In accordance with the general record schedules and the Commission's record management handbook, the records in the system are considered temporary and are destroyed when 3 years old.

SYSTEM MANAGER(S) AND ADDRESS:

Telecommunications Specialist, Office of Information Resources Management, Commodity Futures Trading Commission, Three Lafayette Centre, 1155 21st Street, NW., Washington, DC 20581.

NOTIFICATION PROCEDURES:

Individuals seeking to determine whether the system of records contains information about themselves, seeking access to records about themselves in the system of records or contesting the content of records about themselves should address written inquiries to the FOI, Privacy and Sunshine Acts Compliance Staff, Commodity Futures Trading Commission, Three Lafayette Centre, 1155 21st Street, NW., Washington, DC 20581.

RECORD ACCESS PROCEDURES:

See “Notification Procedures,” above.

Contesting Record Procedures:

See “Notification Procedures,” above.

Record Source Categories:

Telephone and calling card assignment records; call detail listings received from local and long-distance service providers; results of administrative inquiries relating to assignment of responsibility for placement of specific long-distance calls.

CFTC-35

SYSTEM NAME:

Interoffice and Internet Email.

SYSTEM LOCATION:

Mail servers in each system location (Washington, DC, Chicago, New York, and Los Angeles) retain records. Records are backed up nightly onto magnetic tape in all locations. In Washington, DC, the most recent two weeks of tapes are kept in locked boxes on site and tapes with information covering the prior two weeks are kept at an off-site storage facility. Tapes with information covering the most recent four-week period are kept on site, in secured areas, in the Chicago, New York and Los Angeles offices.

CATEGORIES OF INDIVIDUALS COVERED BY THE SYSTEM:

All CFTC employees and on site contractors.

CATEGORIES OF RECORDS IN THE SYSTEM:

Records on the use of the interoffice and Internet email system, including the mailbox name, number of objects in the mailbox, and aggregate size of the mailbox.

AUTHORITY FOR MAINTENANCE OF THE SYSTEM:

5 U.S.C. 301 and section 12(b)(3) of the Commodity Exchange Act, 7 U.S.C. 16(b)(3).

ROUTINE USES OF RECORDS MAINTAINED IN THE SYSTEM INCLUDING CATEGORIES OF USER AND THE PURPOSES OF SUCH USES:

CFTC network administrators who have a need for the records in the performance of their duties use the records. See also the Commission's “General Statement of Routine Uses,” Nos. 1, and 2. In addition, the records and data, other than the content of individual mailboxes, may also be disclosed to contractors as necessary for assessment, modification, or maintenance of the email system.

POLICIES AND PRACTICES FOR STORING, RETRIEVING, ACCESSING, RETAINING AND DISPOSING OF RECORDS IN THE SYSTEM:

STORAGE:

Records are stored on the mail servers in each CFTC location. Servers are backed up nightly to magnetic tape. In Washington, DC, the most recent two weeks of magnetic tape are kept in a locked box in the Computer Room and the prior two weeks are kept at an off-site storage facility. The entire four weeks of magnetic tape information is kept in unlocked boxes in a secured area in the Commission's offices in Chicago, New York and Los Angeles.

RETRIEVABILITY:

The information can be retrieved by assigned interoffice or Internet mail address.

SAFEGUARDS:

Network administrators have access to the email information. This access is generally limited to the “header” information described under “Categories of Records.” In addition, the mailbox owner can grant access to objects in the mailbox to others. The tapes are kept in locked storage boxes in Washington, DC, and only network administrators and OIRM management have keys to the locked boxes. In the Chicago, New York and Los Angeles offices, tapes are kept in a secured area. Only designated OIRM personnel have access to these secured areas.

RETENTION AND DISPOSAL:

Records on magnetic tape are retained for four weeks, and then destroyed as the tape is written over with new information. Records are retained on the mail servers until the sender and receiver delete the information from the email system. Internet email information that is received by the postmaster due to an error in delivery is considered temporary and is destroyed after the problem is corrected. When an employee leaves the Commission, the employee's mailbox is deleted unless the employee or the employee's administrative officer requests that the mailbox be retained in order to recover work-related information.

SYSTEM MANAGER(S) AND ADDRESS:

Network Manager, Commodity Futures Trading Commission, Three Lafayette Centre, 1155 21st Street NW., Washington, DC 20581.

NOTIFICATION PROCEDURES:

Individuals seeking to determine whether the system of records contains information about themselves, seeking access to records about themselves in the system of records, or contesting the content of records about themselves should address written inquiries to the FOI, Privacy and Sunshine Acts Compliance Staff, Commodity Futures Trading Commission, Three Lafayette Centre, 1155 21st Street NW., Washington, DC 20581.

RECORD ACCESS PROCEDURES:

See “Notification Procedures” above.

CONTESTING RECORDS PROCEDURES:

See “Notification Procedures” above.

RECORD SOURCE CATEGORIES:

Internet email, interoffice email.

CFTC-36

SYSTEM NAME:

Internet Security Gateway (Firewall) System.

SYSTEM LOCATION:

Firewall software, located on a PC in the Office of Information Resources Management, Commodity Futures Trading Commission, Three Lafayette Centre, Three Lafayette Centre, 1155 21st Street, NW., Washington, DC 20581. Information on use of each personal computer is stored on that computer.

CATEGORIES OF INDIVIDUALS COVERED BY THE SYSTEM:

All CFTC employees and on site contractors who are users of the Internet.

CATEGORIES OF RECORDS IN THE SYSTEM:

Records on the websites and news groups visited, as identified by the Internet protocol address assigned to each computer, as well as information on the date and time of the website or news group access.

AUTHORITY FOR MAINTENANCE OF THE SYSTEM:

5 U.S.C. 301 and section 12(b)(3) of the Commodity Exchange Act, 7 U.S.C. 16(b)(3).

ROUTINE USES OF RECORDS MAINTAINED IN THE SYSTEM, INCLUDING CATEGORIES OF USERS AND THE PURPOSES OF SUCH USES:

The records are used by CFTC network administrators for maintenance of the firewall system that protects the CFTC from unauthorized access to its data. The network administrators may also use the information to evaluate the level of use of the agency's Internet browsing capability. See also the Commission's “General Statement of Routine Uses,” Nos. 1, and 2. Records may also be disclosed as necessary to the agency's Internet service provider or agency contractor to the extent that the information is necessary for maintenance of the agency's Internet access.

POLICIES AND PRACTICES FOR STORING, RETRIEVING, ACCESSING, RETAINING AND DISPOSING OF RECORDS IN THE SYSTEM:

STORAGE:

Records are kept on the software maintained on the firewall gateway server in the headquarters computer room. In addition, a record of the Internet browsing done on each computer is maintained on that PC. The length of time of storage on the firewall gateway server is governed by available disk space on the server. At current levels of browsing usage, the information is stored on the server firewall for six months. Information on websites visited by each PC is also stored in the PC's history file or cache directory. The information is stored on the individual PC until the cache directory consumes 1% of total disk space. Oldest items are then removed until the directory is equal to or less than 1% of the total disk space. History file records are maintained until 100 URLs are entered. (URL stands for “Uniform Resource Locator” and is the address of the site visited, for example, http://www.cftc.gov.) The oldest URLs are deleted until the total URL count is equal to or less than 100 entries.

RETRIEVABILITY:

The information can be retrieved by Internet protocol address. The network administrators have access to information about the office location and individuals assigned to each computer, as identified by Internet protocol address.

SAFEGUARDS:

Network administrators, through use of a password protection, have access to the Internet web browsing system information that is stored on the firewall gateway server in the headquarters computer room. Access to the computer room is limited to OIRM employees. The Director of OIRM may grant the Commission's Internet service provider access to the Internet web browsing system information for maintenance purposes. However, the provider would not have access to the information that links Internet protocol addresses to particular computers, locations and individuals.

RETENTION AND DISPOSAL:

Records are retained on the Commission's firewall software for approximately six months, and then destroyed.

SYSTEM MANAGER(S) AND ADDRESS:

Network Manager, Commodity Futures Trading Commission, Three Lafayette Centre, 1155 21st Street NW., Washington, DC 20581.

NOTIFICATION PROCEDURES:

Individuals seeking to determine whether the system of records contains information about themselves, seeking access to records about themselves in the system of records, or contesting the content of records about themselves should address written inquiries to the FOI, Privacy and Sunshine Acts Compliance Staff, Commodity Futures Trading Commission, Three Lafayette Centre, 1155 21st Street NW., Washington, DC 20581.

RECORD ACCESS PROCEDURES:

See “Notification Procedures” above.

CONTESTING RECORDS PROCEDURES:

See “Notification Procedures” above.

RECORD SOURCE CATEGORIES:

Internet, website and news group browsing, website access.

CFTC-37

SYSTEM NAME:

Lexis/Westlaw Billing Information System

SYSTEM LOCATION:

Office of Information Resources Management, Commodity Futures Trading Commission, Three Lafayette Centre, 1155 21st Street NW., Washington, DC, 20581.

CATEGORIES OF INDIVIDUALS COVERED BY THE SYSTEM:

All CFTC employees and on site contractors who are users of the Lexis/Westlaw research system.

CATEGORIES OF RECORDS IN THE SYSTEM:

Records on the name, search subject, database searched, date, elapsed time, type of charge, and total charge for a search in the Lexis/Westlaw automated research system.

AUTHORITY FOR MAINTENANCE OF THE SYSTEM:

5 U.S.C. 301 and section 12(b)(3) of the Commodity Exchange Act, 7 U.S.C. 16(b)(3).

ROUTINE USES OF RECORDS MAINTAINED IN THE SYSTEM INCLUDING CATEGORIES OF USERS AND THE PURPOSES OF SUCH USES:

Records are used primarily by the Administrative Officer, OIRM, to monitor expenditures and to ensure the availability of funds. Copies of the usage information for staff in a particular division are distributed monthly to the division's administrative officer for review. See the Commission's “General Statement of Routine Uses,” Nos. 1 and 2. Lexis/Westlaw can also access the information and uses it for statistical analysis and billing purposes.

POLICIES AND PRACTICES FOR STORING, RETRIEVING, ACCESSING, RETAINING AND DISPOSING OF RECORDS IN THE SYSTEM:

STORAGE:

The Administrative Officer, OIRM, maintains billing information in a locked file drawer.

RETRIEVABILITY:

By division, by month of use, by database accessed, by user name and user identification number. Retrieval is done manually.

SAFEGUARDS:

Billing information is kept in a locked file cabinet. Information is provided only to the OIRM Administrative Officer or other CFTC staff who have a need to know for budgeting or billing reconciliation purposes.

RETENTION AND DISPOSAL:

Hard copies of monthly billing statements are retained for two years, and then destroyed.

SYSTEM MANAGER(S) AND ADDRESS:

Administrative Officer, Office of Information Resources Management, Commodity Futures Trading Commission, Three Lafayette Centre, 1155 21st Street NW., Washington, DC 20581.

NOTIFICATION PROCEDURES:

Individuals seeking to determine whether the system of records contains information about themselves, seeking access to records about themselves in the system of records, or contesting the content of records about themselves should address written inquiries to the FOI, Privacy and Sunshine Acts Compliance Staff, Commodity Futures Trading Commission, Three Lafayette Centre, 1155 21st Street NW., Washington, DC 20581.

RECORD ACCESS PROCEDURES:

See “Notification Procedures” above.

CONTESTING RECORDS PROCEDURES:

See “Notification Procedures” above.

RECORD SOURCE CATEGORIES:

Lexis/Westlaw billing information.

CFTC-38

SYSTEM NAME:

Automated Library Circulation System

SYSTEM LOCATION:

Library, Commodity Futures Trading Commission, Three Lafayette Centre, 1155 21st Street, NW., Washington, DC 20581.

CATEGORIES OF INDIVIDUALS COVERED BY THE SYSTEM:

Individual CFTC employees who check out books and periodicals from the CFTC Library.

CATEGORIES OF RECORDS IN THE SYSTEM:

Records showing the bar code assigned to employees who use the library, title, due date, and hold information on library materials checked-out by individual CFTC employees; records of overdue materials and of employee notification of overdue materials.

AUTHORITY FOR MAINTENANCE OF THE SYSTEM:

5 U.S.C. 301 and 41 CFR Part 101-27.

ROUTINE USES OF RECORDS MAINTAINED IN THE SYSTEM INCLUDING CATEGORIES OF USERS AND THE PURPOSES OF SUCH USES:

The Library staff uses the information to track the location of library materials, to provide users on request with a list of materials currently shown as in their possession, and to issue, as necessary, overdue notices for materials. Employees also have the ability to look up their own records to ascertain what materials are in their possession and the date they are due back to the Library. See the Commission's “General Statement of Routine Uses,” Nos. 1 and 2. The records may also be disclosed as necessary to agency contractors in connection with assessment, modification or maintenance of the automated circulation system.

POLICIES AND PRACTICES FOR STORING, RETRIEVING, ACCESSING, RETAINING AND DISPOSING OF RECORDS IN THE SYSTEM:

STORAGE:

Records are stored on the CFTC local area network file server. Records on the identifying bar codes assigned to individuals are stored in the file server and on Rolodex cards.

RETRIEVABILITY:

Records are retrievable by employee name or by the employee's bar code number or by employee's office telephone number.

SAFEGUARDS:

Employees may access their own records. Only authorized CFTC staff members, who are principally staff of the Library or the Office of Information Resources Management, may access records of all employees. Staff members must use an individual password to gain access to the information stored in the computer.

RETENTION AND DISPOSAL:

Records in the system are considered temporary. The records of library transactions are destroyed when an item on loan is returned or reimbursement is made for replacement of the item.

SYSTEM MANAGER(S) AND ADDRESS:

Administrative Librarian, Commodity Futures Trading Commission, Three Lafayette Centre, 1155 21st Street N.W., Washington, DC 20581.

NOTIFICATION PROCEDURES:

Individuals seeking to determine whether the system of records contains information about themselves, seeking access to records about themselves in the system of records, or contesting the content of records about themselves should address written inquiries to the FOI, Privacy and Sunshine Acts Compliance Staff, Commodity Futures Trading Commission, Three Lafayette Centre, 1155 21st Street NW., Washington, DC 20581.

RECORD ACCESS PROCEDURES:

See “Notification Procedures” above.

CONTESTING RECORDS PROCEDURES:

See “Notification Procedures” above.

RECORD SOURCE CATEGORIES:

Library user bar code identifiers; library materials use; overdue notices.

CFTC-39

SYSTEM NAME:

Freedom of Information Act Requests.

SYSTEM LOCATION:

FOI, Privacy and Sunshine Acts Compliance Office, Commodity Futures Trading Commission, Three Lafayette Centre, 1155 21st Street, NW., Washington, DC 20581. Other offices involved in the processing of requests may also maintain copies of the requests and any related internal administrative records.

CATEGORIES OF INDIVIDUALS COVERED BY THE SYSTEM:

Persons requesting information from the Commission pursuant to provisions of the Freedom of Information Act, 5 U.S.C. 552, and persons who are the subjects of Freedom of Information Act requests.

CATEGORIES OF RECORDS IN THE SYSTEM:

Requests, internal memoranda, response letters, appeals of denials, appeal determinations and electronic tracking data.

AUTHORITY FOR MAINTENANCE OF THE SYSTEM:

5 U.S.C. 552, 5 U.S.C. 301.

ROUTINE USES OF RECORDS MAINTAINED IN THE SYSTEM, INCLUDING CATEGORIES OF USERS AND THE PURPOSES OF SUCH USES:

The records are used by Commission staff to process FOIA requests and appeals and to prepare an annual report to the Department of Justice on the Commission's FOIA activity. See also the Commission's “General Statement of Routine Uses,” Nos. 1 and 2.

POLICIES AND PRACTICES FOR STORING, RETRIEVING, ACCESSING, RETAINING, AND DISPOSING OF RECORDS IN THE SYSTEM:

STORAGE:

Paper records in file folders, computer memory, computer printouts, and microfiche.

RETRIEVABILITY:

By assigned control number, by name of requester, or by subject of request.

SAFEGUARDS:

Paper records and microfiche are maintained in lockable file cabinets on secured premises. Information stored on computers is protected by a password, with access limited to persons whose official duties require access.

RETENTION AND DISPOSAL:

FOIA requests are retained in accordance with General Records Schedule 14 of the National Archives and Records Administration.

SYSTEM MANAGERS AND ADDRESS:

Assistant Secretary to the Commission for FOIA Matters, Office of the Secretariat, Commodity Futures Trading Commission, Three Lafayette Centre, 1155 21st Street, NW., Washington, DC 20581.

NOTIFICATION PROCEDURE:

Individuals seeking to determine whether this system of records contains information about themselves, seeking access to records about themselves in this system of records or contesting the content of records about themselves contained in this system of records should address written inquiry to the FOI, Privacy and Sunshine Acts Compliance Staff, Commodity Futures Trading Commission, 1155 21st Street, NW., Washington, DC 20581.

RECORD SOURCE CATEGORIES:

Persons requesting information from the Commission pursuant to the Freedom of Information Act and employees processing the requests.

CFTC-40

SYSTEM NAME:

Privacy Act Requests.

SYSTEM LOCATION:

FOI, Privacy and Sunshine Acts Compliance Office, Commodity Futures Trading Commission, Three Lafayette Centre, 1155 21st Street, NW., Washington, DC 20581. Copies of the requests and any related internal administrative records may also be maintained by other offices involved in the processing of requests.

CATEGORIES OF INDIVIDUALS COVERED BY THE SYSTEM:

Persons filing requests for access to, correction of, or an accounting of disclosures of personal information contained in system of records maintained by the Commission, pursuant to the Privacy Act of 1974. 5 U.S.C. 552a.

CATEGORIES OF RECORDS IN THE SYSTEM:

Requests, internal memoranda, response letters, appeals of denials, appeal determinations and electronic tracking data.

AUTHORITY FOR MAINTENANCE OF THE SYSTEM:

5 U.S.C. 552a, 5 U.S.C. 301.

ROUTINE USES OF RECORDS MAINTAINED IN THE SYSTEM, INCLUDING CATEGORIES OF USERS AND THE PURPOSES OF SUCH USES:

The records are used by Commission staff to process Privacy Act requests and appeals and to prepare the Commission's Biennial Privacy Act report to Congress. See also the Commission's “General Statement of Routine Uses,” Nos. 1 and 2.

POLICIES AND PRACTICES FOR STORING, RETRIEVING, ACCESSING, RETAINING, AND DISPOSING OF RECORDS IN THE SYSTEM:

STORAGE:

Paper records in file folders, computer memory, computer printouts, and microfiche.

RETRIEVABILITY:

By assigned control number or by name of requester.

SAFEGUARDS:

Paper records and microfiche are maintained in lockable file cabinets on secured premises. Information stored on computers is protected by a password, with access limited to persons whose official duties require access.

RETENTION AND DISPOSAL:

Privacy Act requests are retained in accordance with General Records Schedule 14 of the National Archives and Records Administration.

SYSTEM MANAGER(S) AND ADDRESS:

Assistant Secretary to the Commission for FOIA Matters, Office of the Secretariat, Commodity Futures Trading Commission, Three Lafayette Centre, 1155 21st Street, NW., Washington, DC 20581.

NOTIFICATION PROCEDURE:

Individuals seeking to determine whether this system of records contains information about themselves, seeking access to records about themselves in this system of records, or contesting the content of records about themselves contained in this system of records should address written inquiry to the FOI, Privacy and Sunshine Acts Compliance Staff, Commodity Futures Trading Commission, 1155 21st Street, NW., Washington, DC 20581.

RECORD SOURCE CATEGORIES:

Persons requesting information from the Commission pursuant to the Privacy Act and employees processing the requests.

CFTC-41

SYSTEM NAME:

Requests for Confidential Treatment.

SYSTEM LOCATION:

FOI, Privacy and Sunshine Acts Compliance Office, Commodity Futures Trading Commission, Three Lafayette Centre, 1155 21st Street, NW., Washington, DC 20581. A copy of the request may also be kept by the office receiving the document for which confidential treatment is being requested.

CATEGORIES OF INDIVIDUALS COVERED BY THE SYSTEM:

Persons requesting confidential treatment of, and persons who are the subjects of, documents filed with the Commission.

CATEGORIES OF RECORDS IN THE SYSTEM:

Requests for confidential treatment, the documents for which confidential treatment is requested and electronic tracking data.

AUTHORITY FOR MAINTENANCE OF THE SYSTEM:

5 U.S.C. 552, 5 U.S.C. 301.

ROUTINE USES OF RECORDS MAINTAINED IN THE SYSTEM, INCLUDING CATEGORIES OF USERS AND THE PURPOSES OF SUCH USES:

The records are used by Commission staff to determine whether to grant or deny confidential treatment of information submitted to the Commission for which a FOIA request has been received and to process appeals of determinations denying confidential treatment for submitted information. See also the Commission's “General Statement of Routine Uses,” Nos. 1 and 2.

POLICIES AND PRACTICES FOR STORING, RETRIEVING, ACCESSING, RETAINING, AND DISPOSING OF RECORDS IN THE SYSTEM:

STORAGE:

Paper records in file folders, computer memory, computer printouts, and microfiche.

RETRIEVABILITY:

By name of requester or by subject of request.

SAFEGUARDS:

Paper records are maintained in lockable file cabinets on secured premises. Information stored on computers is protected by a password, with access limited to persons whose official duties require access.

RETENTION AND DISPOSAL:

Records are retained for 20 years, then destroyed.

SYSTEM MANAGER(S) AND ADDRESS:

Assistant Secretary to the Commission for FOIA Matters, Office of the Secretariat, Commodity Futures Trading Commission, Three Lafayette Centre, 1155 21st Street, NW., Washington, DC 20581.

NOTIFICATION PROCEDURE:

Individuals seeking to determine whether this system of records contains information about themselves, seeking access to records about themselves in this system of records, or contesting the content of records about themselves contained in this system of records should address written inquiry to the FOI, Privacy and Sunshine Acts Compliance Staff, Commodity Futures Trading Commission, 1155 21st Street, NW., Washington, DC 20581.

RECORD SOURCE CATEGORIES:

Persons submitting documents to the Commission.

CFTC-42

SYSTEM NAME:

Debt Collection Files.

SYSTEM LOCATION:

Division of Trading and Markets, Three Lafayette Centre, 1155 21st St. NW., Washington, DC 20581.

CATEGORIES OF INDIVIDUALS COVERED BY THE SYSTEM:

Individuals who owe a civil monetary penalty to the Commodity Futures Trading Commission or who have not complied with an order of restitution or disgorgement resulting from an administrative or injunctive enforcement action.

CATEGORIES OF RECORDS IN THE SYSTEM:

Debt collection letters and correspondence to and from the debtor and others related to the debt. The files will generally contain information including the name and address of the debtor, the taxpayer's identification number (which may be the social security number); records of each collection made; and notice(s) to the debtor demanding payment and describing the consequences of non-payment. The files may also contain credit reports; reports of asset searches; copies of income tax returns; financial statements reflecting the net worth of the debtor; if applicable, date by which the debt must be referred to the Department of the Treasury or Department of Justice for further collection action; documentation of judgments or liens; and citation or basis on which the debt was terminated or compromised.

AUTHORITY FOR MAINTENANCE OF THE SYSTEM:

31 U.S.C. 3701, et seq.

ROUTINE USES OF RECORDS MAINTAINED IN THE SYSTEM:

In addition to the Commission's “General Statement of Routine Uses,” the records regarding the debt and the actions taken to collect the monies may be forwarded to the Department of the Treasury or the Department of Justice for further collection action. Once the records are forwarded to the Department of the Treasury, they are covered by the Treasury/Financial Management Services System 014, Debt Collection Operations. If the records are forwarded to the Department of Justice, they are covered by the Department's system JMD-006, Debt Collection Management System. Information about the delinquent debt may be disclosed to consumer or commercial reporting agencies as required by 31 U.S.C. 3711(e) and 4 CFR part 102. Reporting may be done directly by the Commission or through the Department of the Treasury upon referral of the delinquent debt for further collection action.

POLICIES AND PRACTICES FOR STORING, RETRIEVING, ACCESSING, RETAINING AND DISPOSING OF RECORDS IN THE SYSTEM:

STORAGE:

Paper records stored in files; computer database.

RETRIEVABILITY:

Records are retrievable by CFTC docket number and by the name of the debtor.

SAFEGUARDS:

In addition to general building security, paper records are maintained in areas accessible only to authorized personnel. Computer security measures limit access to electronic data.

RETENTION AND DISPOSAL:

In accordance with General Records Schedule 6.

SYSTEM MANAGER(S) AND ADDRESS:

Division of Trading and Markets, Three Lafayette Centre, 1155 21st Street, NW., Washington, DC 20581.

NOTIFICATION PROCEDURES:

Individuals seeking to determine whether the system of records contains information about themselves, seeking access to records about themselves in the system of records or contesting the content of records about themselves should address written inquiries to the FOI, Privacy and Sunshine Acts Compliance Staff, Commodity Futures Trading Commission, 1155 21st Street, NW., Washington, DC 20581.

RECORD ACCESS PROCEDURES:

See “Notification Procedures,” above.

CONTESTING RECORD PROCEDURES:

See “Notification Procedures,” above.

RECORD SOURCE CATEGORIES:

Commission orders, judicial orders, debtors, credit reports from commercial credit bureaus, asset search databases, Department of the Treasury, Department of Justice.

Issued in Washington, DC, on July 31, 2001 by the Commission.
Jean A. Webb,
Secretary of the Commission.

[FR Doc. 01-19765 Filed 8-8-01; 8:45 am]

BILLING CODE 6351-01-P